DEPARTMENT OF EDUCATION

34 CFR Subtitle A

RIN 1855-AA09

[Docket No. ED-2012-OII-0027]

Final Priorities, Requirements, Definitions, and Selection Criteria—Investing in Innovation Fund

AGENCY: Office of Innovation and Improvement, Department of Education.

ACTION: Final priorities, requirements, definitions, and selection criteria.

[CFDA Numbers: 84.411A, 84.411B, and 84.411C]

SUMMARY: The Assistant Deputy Secretary for Innovation and Improvement announces priorities, requirements, definitions, and selection criteria under the Investing in Innovation Fund (i3). The Assistant Deputy Secretary may use one or more of these priorities, requirements, definitions, and selection criteria for competitions in fiscal year (FY) 2013 and later years.

We clarify and redesign key aspects of the program by incorporating lessons learned from past i3 competitions. Specifically, we intend to improve the i3 program to better achieve its purposes and goal by making changes that will result in accelerating the identification of promising solutions to pressing challenges in K-12 public education, supporting the evaluation of the efficacy of such solutions, and developing new approaches to scaling effective practices to serve more students.

DATES: These priorities, requirements, definitions, and selection criteria are effective April 26, 2013.

FOR FURTHER INFORMATION CONTACT: Carol Lyons, U.S. Department of Education, 400 Maryland Avenue SW., Room 4W203 LBJ, Washington, DC 20202. Telephone: (202) 453-7122 or by email: i3@ed.gov.

If you use a telecommunications device for the deaf (TDD) or a text telephone (TTY), call the Federal Relay Service (FRS), toll free, at 1-800-877-8339.

SUPPLEMENTARY INFORMATION:

Executive Summary

Purpose of This Regulatory Action: The purpose of this action is to establish priorities, requirements, definitions, and selection criteria that will enable effective grant making, resulting in the selection of high-quality applicants who propose to implement activities that are most likely to have a significant national impact on educational reform and improvement. This document refines the selection criteria for the i3 program to better articulate the expectations for the three types of i3 grants, provides greater clarity regarding the program's evidence standards, widens the range of these standards by broadening the types of evidence that can be used to support Development grants, and identifies a comprehensive set of priorities that the Secretary may select from to use in an i3 grant competition for any given year.

Summary of the Major Provisions of This Regulatory Action: This document establishes priorities, requirements, definitions, and selection criteria that allow the Department to improve the design of the i3 program to better achieve its purposes and goals.

This document includes 11 priorities that the Secretary may select from when establishing priorities for each type of grant (i.e., Development, Validation, and Scale-up) in an i3 competition in a given year. These priorities represent a range of education topics:

• Improving the effectiveness of teachers or principals;

• Improving low-performing schools;

• Improving science, technology, engineering, and mathematics (STEM) education;

• Improving academic outcomes for students with disabilities;

• Improving academic outcomes for English learners (ELs);

• Improving parent and family engagement;

• Improving cost-effectiveness and productivity;

• Effective use of technology;

• Enabling broad adoption of effective practices; serving rural communities; and

• Supporting novice applicants.

Of these priorities, ten were proposed and one is added in response to public comment. Specifically, in order to expand the reach of the i3 program and encourage entities that have not applied previously for an i3 grant, we add a priority for “novice i3 applicants,” meaning applicants that have never received an i3 grant.

The Secretary will consider several factors when selecting the priorities to use in a given competition, including the Department's policy priorities, the need for new solutions in a particular priority area, the availability of other funding sources to support a particular priority area, and the results and lessons learned from i3 competitions.

This document also clarifies and strengthens the requirements and definitions for the i3 program. For example, the i3 program focuses on K-12 public education. Therefore, we clarify that all i3 grantees must implement practices that serve students who are in grades K-12 at some point during the funding period. Further, we strengthen the project evaluation requirement so that i3 grantees will conduct high-quality evaluations that rigorously measure the effect of an i3-supported practice, at the proposed level of scale, on a relevant outcome (as defined in this document). We also revise the evidence standards and definitions so that applicants can better understand what is required to meet each level of evidence.

Finally, this document establishes new selection criteria designed to ensure that applications selected for funding have the potential to generate substantial improvements in student achievement and other key outcomes and include well-articulated plans for the implementation and evaluation of the proposed project. Specifically, we include selection factors that consider a proposed project's significance, the quality of the project design, the management plan, and the project evaluation, as well as the qualifications of key personnel.

This document includes some revisions from the proposed priorities, requirements, definitions, and selection criteria (NPP) (published in the Federal Register on December 14, 2012 (77 FR 74407)). We discuss changes from the NPP in greater detail in the Analysis of Comments and Changes. We do not discuss minor technical or editorial changes.

Costs and Benefits: The Secretary believes that these priorities, requirements, definitions, and selection criteria do not impose significant costs on eligible local educational agencies (LEAs), nonprofit organizations, or other entities that would receive assistance through the i3 program.

The Secretary believes that the costs imposed on applicants by these priorities, requirements, definitions, and selection criteria are limited to paperwork burden related to preparing an application and that the benefits of implementing them outweigh any costs incurred by applicants. The costs of carrying out activities would be paid for with program funds and with matching funds provided by private-sector partners. Thus, the costs of implementation would not be a burden for any eligible applicants, including small entities. Please refer to the Regulatory Impact Analysis section in this preamble for a more complete discussion of the costs and benefits of this regulatory action.

This document provides an accounting statement that estimates that approximately $140 million will transfer from the Federal Government to LEAs and nonprofit organizations under this program. Please refer to the accounting statement in this preamble for a more detailed discussion.

Purpose of Program: The i3 program is designed to generate and validate solutions to persistent educational challenges and to support the expansion of effective solutions across the country to serve substantially larger numbers of students. The central design element of the i3 program is its multi-tier structure that links the amount of funding that an applicant may receive to the quality of the evidence supporting the efficacy of the proposed project. Applicants proposing practices supported by limited evidence can receive relatively small grants that support the development and initial evaluation of promising practices and help to identify new solutions to pressing challenges; applicants proposing practices supported by evidence from rigorous evaluations, such as large randomized controlled trials, can receive sizable grants to support expansion across the Nation. This structure provides incentives for applicants to build evidence of effectiveness of their proposed projects and to address the barriers to serving more students across schools, districts, and States so that applicants can compete for more sizeable grants.

As importantly, all i3 projects are required to generate additional evidence of effectiveness. All i3 grantees must use part of their budgets to conduct independent evaluations (as defined in this document) of their projects. This ensures that projects funded under the i3 program contribute significantly to improving the information available to practitioners and policymakers about which practices work, for which types of students, and in what contexts.

The Department awards three types of grants under this program: “Development” grants, “Validation” grants, and “Scale-up” grants. These grants differ in terms of the level of prior evidence of effectiveness required for consideration of funding, the level of scale the funded project should reach, and consequently the amount of funding available to support the project. We provide an overview to clarify the expectations for each grant type:

1. Development grants provide funding to support the development or testing of practices that are supported by evidence of promise (as defined in this document) or strong theory (as defined in this document) and whose efficacy should be systematically studied. Development grants will support new or substantially more effective practices for addressing widely shared challenges. Development projects are novel and significant nationally, not projects that simply implement existing practices in additional locations or support needs that are primarily local in nature.

All Development grantees must evaluate the effectiveness of the project at the level of scale proposed in the application.

2. Validation grants provide funding to support expansion of projects supported by moderate evidence of effectiveness (as defined in this document) to the national or regional level (as defined in this document). Validation grants must further assess the effectiveness of the i3-supported practice through a rigorous evaluation, with particular focus on the populations for and the contexts in which the practice is most effective. We expect and consider it appropriate that each applicant will propose to use the Validation funding to build its capacity to deliver the i3-supported practice, particularly early in the funding period, to successfully reach the level of scale proposed in its application. Additionally, we expect each applicant to address any specific barriers to the growth or scaling of the organization or practice (including barriers related to cost-effectiveness) in order to deliver the i3-supported practice at the proposed level of scale and provide strategies to address these barriers as part of its proposed scaling plan.

All Validation grantees must evaluate the effectiveness of the practice that the supported project implements and expands. We expect that these evaluations will be conducted in a variety of contexts and for a variety of students, will identify the core elements of the practice, and will codify the practices to support adoption or replication by the applicant and other entities.

3. Scale-up grants provide funding to support expansion of projects supported by strong evidence of effectiveness (as defined in this document) to the national level (as defined in this document). In addition to improving outcomes for an increasing number of high-need students, Scale-up grants will generate information about the students and contexts for which a practice is most effective. We expect that Scale-up grants will increase practitioners' and policymakers' understanding of strategies that allow organizations or practices to expand quickly and efficiently while maintaining their effectiveness.

Similar to Validation grants, all Scale-up grantees must evaluate the effectiveness of the i3-supported practice that the project implements and expands; this is particularly important in instances in which the proposed project includes changing the i3-supported practice in order to more efficiently reach the proposed level of scale (for example, by developing technology-enabled training tools). The evaluation of a Scale-up grant must identify the core elements of, and codify, the i3-supported practice that the project implements to support adoption or replication by other entities. We also expect that evaluations of Scale-up grants will be conducted in a variety of contexts and for a variety of students in order to determine the context(s) and population(s) for which the i3-supported practice is most effective.

Program Authority: American Recovery and Reinvestment Act of 2009 (ARRA), Division A, Section 14007, Pub. L. 111-5.

We published a notice of proposed priorities, requirements, definitions, and selection criteria for this program in the Federal Register on December 14, 2012 (77 FR 74407). That notice contained background information and our reasons for proposing the particular priorities, requirements, definitions, and selection criteria.

Public Comment: In response to our invitation in the proposed priorities, requirements, definitions, and selection criteria, 37 parties submitted comments.

We group major issues according to subject. Generally, we do not address technical and other minor changes.

Analysis of Comments and Changes: An analysis of the comments and of any changes in the priorities, requirements, definitions, and selection criteria since publication of the proposed priorities, requirements, definitions, and selection criteria follows.

Priorities

Priorities—General

Comment: Two commenters expressed support for the i3 program's proposed approach of selecting from a variety of priorities, each containing several possible project focus areas, rather than using broad priorities as we have in the past. One commenter stated that the approach was strategic and would allow the Department to consider the sequencing of priority areas across years. One commenter stated that the proposed approach would allow flexibility and creativity that would facilitate wholesale transformation of the education field.

Two commenters disagreed with the proposed approach. One stated that allowing the Department to select from a wide range of priorities and focus areas renders the priorities meaningless, and recommended that the Department focus on a smaller range of priorities that are designed to close achievement gaps in low-performing schools. Another commenter expressed concern that the Department's proposed approach would narrow the range of projects funded under the i3 program by limiting the focus of the priorities to preconceived ideas of what works best in education. The commenter suggested that focusing on areas of acute need or encouraging applicants to address particular challenges would disadvantage applicants proposing more comprehensive approaches.

Discussion: We appreciate the support from commenters regarding the proposed structure of the priorities. The flexibility to select from a variety of possible project focus areas (i.e., the subparts under each priority) within a given priority will allow the Secretary to prioritize areas based on the education environment in a given year. This flexibility will ensure that the i3 program reflects priorities that are important and relevant to the field on an ongoing basis.

We recognize that the priorities have several subparts; however the priorities will not be rendered meaningless because the notice inviting applications for each competition will provide a concise list of the priorities that establish a coherent and manageable focus. Further, we do not agree that this approach will narrow the range of projects funded under the i3 program, nor will it disadvantage comprehensive projects because the priorities—although specific about the need or challenge a project must address—do not prescribe the intervention or practice that an applicant could propose. Moreover, the i3 program may include a broader priority if the particular issue warrants it.

Changes: None.

Comment: One commenter stated that achieving college, career, and citizenship-ready skills should be the core focus of the i3 program. The commenter explained that these skills are necessary for deeper learning and lifelong success. The commenter suggested that requiring all i3 projects to produce measures aligned with these outcomes would benefit the i3 program because the Department could then make comparisons across projects.

Discussion: We agree that it is essential for students to be prepared to think critically, solve complex problems, and communicate effectively. While these “deeper learning” skills are important for long-term success, given the diversity of the projects under the i3 program, applicants have discretion in determining the specific outcomes and measures that are relevant to their proposed projects. Moreover, nothing in the authorizing statute or the priorities, requirements, definitions, or selection criteria for this program prohibits eligible applicants from using deeper learning outcomes to evaluate their projects. In addition, subparts (d) and (e) of proposed priority 8 (Effective Use of Technology) are explicitly focused on the types of skills that are of interest to the commenter.

Further, ARRA established the i3 program to expand the implementation of, and investment in, innovative practices that are demonstrated to improve student achievement or student growth, close achievement gaps, decrease dropout rates, or increase high school graduation rates. Although we are not requiring all applicants to respond to any one specific measure, all i3 grantees are required to implement practices that are designed to improve one of these measures for high-need students (as defined in this document). By providing grantees the discretion to determine which measure is most appropriate to their projects, we avoid compelling grantees to adopt measures that do not fit their project and strike a reasonable balance between providing an opportunity to compare similar projects without greatly limiting the types of projects that we could fund.

Changes: None.

Comment: A few commenters recommended the Department add other priorities, including priorities that focus on improving college access, transitioning between secondary and postsecondary schooling, promoting diversity, and implementing new models for teaching and learning that are based on the science of learning and research on youth development.

One commenter noted the absence of a priority focused on assessment literacy and suggested that the Department either create an additional priority focused on building educators' assessment literacy or include references to assessment literacy in proposed priorities 1 (Improving the Effectiveness of Teachers or Principals), 2 (Improving Low-Performing Schools), 3 (Improving Science, Technology, Engineering, and Mathematics (STEM) Education), and 5 (Improving Academic Outcomes for English Learners (ELs)), as well as the definitions of “highly effective teacher” and “highly effective principal.” The commenter also discussed the Accessible Portable Item Profile (APIP) standards and the importance of ensuring that the delivery of digital test content is tailored to each student's specific accessibility needs so that students can demonstrate what they know and can do. The commenter suggested the Department consider whether the use of APIP should be a separate priority or a requirement for any applicant addressing proposed priorities 2 (Improving Low-Performing Schools), 4 (Improving Academic Outcomes for Students with Disabilities), 5 (Improving Academic Outcomes for English Learners (ELs)), 7 (Improving Cost Effectiveness and Productivity), and 8 (Effective Use of Technology).

Discussion: Although we recognize the importance of the issues and topics mentioned by the commenters, we decline to include additional priorities or revise the proposed priorities in the ways suggested.

As noted in the NPP, in any i3 competition we may include priorities from the notice of final supplemental priorities and definitions for discretionary grant programs, published in the Federal Register on December 15, 2010 (75 FR 78486), and corrected on May 12, 2011 (76 FR 27637) (Supplemental Priorities). Because the Supplemental Priorities include priorities on increasing postsecondary success, including the academic preparation for and persistence in postsecondary education, and promoting diversity, we conclude that it is not necessary for the Department to develop new priorities to address these areas here. In addition, there is nothing in the priorities that would preclude an eligible applicant from proposing projects that promote school and classroom diversity, provided that the proposed project otherwise meets the requirements in the relevant priority. Further, because promoting diversity aligns with many of the other priorities we establish, we do not think it is necessary to add a new priority to address this topic.

We also do not consider it necessary to create a separate priority that focuses on new models for teaching and learning because many of the priorities in this document would allow applicants to propose new models for teaching and learning while addressing a content-specific challenge. For example, under priority 1 (Improving the Effectiveness of Teachers or Principals), we include a subpart on developing new models for teacher preparation. Similarly, under priority 9 (Effective Use of Technology), we include a subpart on developing and implementing technology-enabled strategies for teaching and learning concepts and content that are difficult to teach using traditional approaches. We think that the development and implementation of new models for teaching and learning is most effective when the models address a specific challenge.

With regard to the recommendation that we include assessment literacy in several priority areas, although we agree that it is important for teachers and principals to understand and use data and assessment results to improve teaching, we do not think it is necessary to prescribe assessment literacy as a requirement because nothing prohibits applicants from addressing it under the priorities as written. Similarly, with regard to the APIP standards, we agree that assessments should be designed to be accessible to all students and that the use of standards to ensure interoperability is critical to the portability of assessments. While we expect any i3 grant that is developing and implementing assessments to consider accessibility standards, given the variety of projects that can be funded under the i3 program, we do not think it is appropriate for the Department to prescribe a specific set of standards.

Changes: None.

Comment: Four commenters suggested revisions to several of the proposed priorities that would encourage the use of the principles of universal design for learning (UDL). Specifically, these commenters provided revised text incorporating UDL into subparts under proposed priorities 1 (Improving the Effectiveness of Teachers or Principals), 2 (Improving Low-Performing Schools), 3 (Improving Science, Technology, Engineering, and Mathematics (STEM) Education), 4 (Improving Academic Outcomes for Students with Disabilities), 5 (Improving Academic Outcomes for English Learners (ELs)), 6 (Improving Parent and Family Engagement), and 8 (Effective Use of Technology). One commenter explained that these revisions would support the inclusion of students with disabilities and their interests in general education and the i3 program.

Discussion: There is nothing in the priorities precluding an eligible applicant from proposing projects that use principles of UDL or that support greater inclusion of students with disabilities, provided that the proposed project otherwise meets the requirements of the relevant priority. Given the variety of projects that can be funded under the i3 program and our intent to maximize the number of potential applicants, we do not want to prescribe a specific principle of learning.

Changes: None.

Comment: One commenter recommended the Department revise priorities 1 (Improving the Effectiveness of Teachers or Principals), 3 (Improving Science, Technology, Engineering, and Mathematics (STEM) Education), 5 (Improving Academic Outcomes for English Learners (ELs)), and 8 (Effective Use of Technology) to add specific references to the use of high-quality, multiplatform digital content and services. The commenter explained that digital tools make learning accessible to all students and are essential to teacher preparation and development. Further, the commenter stated that multiplatform digital content improves the services provided to students with different learning needs.

Discussion: There is nothing in these priorities that would preclude an eligible applicant from proposing projects that utilize multiplatform digital content and services, provided that the proposed project otherwise meets the requirements of the relevant priority. Given the variety of projects that can be funded under the i3 program and our intent to maximize the number of potential applicants, we do not want to prescribe specific tools or approaches that must be used.

Changes: None.

Comment: One commenter supported the inclusion of subparts focused on capacity building in proposed priority 2 (Improving Low-Performing Schools) and recommended the Department include similar provisions under proposed priorities 1 (Improving the Effectiveness of Teachers or Principals), 3 (Improving Science, Technology, Engineering, and Mathematics (STEM) Education), 4 (Improving Academic Outcomes for Students with Disabilities), 5 (Improving Academic Outcomes for English Learners (ELs)), and 6 (Improving Parent and Family Engagement). The commenter stated that projects under these priorities would benefit from a similar capacity building to support external relationships at the partner, district, or State level.

Discussion: The i3 program supports the expansion and scaling of effective programs by providing sufficient funding to build organizational capacity and to overcome barriers to reaching additional students. The different tiers of i3 grants provide a continuum for funding effective programs that spans initial, localized development to implementation on a national scale. The hope is that more effective practices will replace less effective practices and lead to increases in student achievement and improvements in other student outcomes. Thus, a general expectation under the i3 program, particularly for the Scale-up and Validation grants, is that applicants consider how to build their capacity both internally and externally to scale their projects to serve more students. For that reason, we do not think it is necessary to include subparts in all of the priorities identified by the commenter in order to encourage grantees to build external relationships.

Additionally, one of the goals of the i3 program is to demonstrate how to effectively build capacity amongst key entities in K-12 public education (e.g., educators, schools, parents) in order to improve student achievement for high-need students. However, the Department believes that this is best accomplished without being overly prescriptive about the role of outside entities.

We proposed two subparts under priority 2 (Improving Low-Performing Schools) that are specific to capacity building and external partners because initiatives to turn around low-performing schools often benefit from the involvement of diverse stakeholders. To clarify that the intent of these subparts is to improve school-, district-, and State-level capacity to support school turnaround efforts, we are making technical revisions to subparts (e) and (f) of the priority.

Changes: We have revised subpart (e) under priority 2 (Improving Low-Performing Schools) to clarify that projects must support the efforts of low-performing schools or districts in their turnaround efforts by increasing access to, and use of, high-quality partners.

We also have revised subpart (f) under this priority to clarify that projects must be designed to increase district- or State-level capacity to turn around low-performing schools, which would encompass, among other things, improvements to State and district support and oversight of turnaround efforts.

Comment: One commenter questioned whether the Department has the authority to include priorities or definitions that reference diverse student populations, racial and ethnic groups, and gender. The commenter further stated that it is generally illegal for government programs to show favoritism or use classifications based on race, ethnicity, or sex.

Discussion: We agree that priority 3 (Improving Science, Technology, Engineering, and Mathematics (STEM) Education), and the requirement that all i3 grants implement projects that are designed to improve student achievement for high-need students (as defined in this document) support investments in and encourage innovative strategies that are designed to increase access to rigorous educational opportunities for high-need students or individuals traditionally underrepresented in STEM fields. However, we do not agree that this priority and requirement show any favoritism toward a specific population group. Furthermore, recipients of any Department of Education funding, including i3 funds, must comply with all of the nondiscrimination requirements set forth in Title VI of the Civil Rights Act of 1964, Section 504 of the Rehabilitation Act of 1973, Title IX of the Education Amendments of 1972, and the Age Discrimination Act of 1975. On December 2, 2011, the Departments of Education and Justice jointly issued guidance that explains how educational institutions can use generalized race-based approaches (i.e., approaches that employ racial criteria, such as the overall racial composition of neighborhoods, but do not involve decision-making on the basis of any individual student's race or treat individual students differently because of their race) within the framework of Title VI of the Civil Rights Act of 1964. The “Guidance on the Voluntary Use of Race to Achieve Diversity and Avoid Racial Isolation in Elementary and Secondary Schools” is available on the Department's Web site at www.ed.gov/ocr/docs/guidance-ese-201111.pdf. For additional information and assistance on civil rights laws that may impose additional requirements on recipients and subrecipients of Federal financial assistance, visit www2.ed.gov/policy/gen/leg/recovery/notices/civil-rights.html.

Changes: None.

Comment: In response to the Department's specific request for comment, a few commenters supported the establishment of a priority for applicants that have never received, or partnered with, an entity that has received a grant under the i3 program. The commenters stated that such a priority would increase the pool of innovative applicants. However, one commenter expressed concern that such a priority would discourage applicants from partnering with multiple entities. The commenter also suggested that entities proposing to provide effective services to students should be encouraged to continue to partner with multiple entities regardless of whether they have been part of an i3 grant in the past.

Discussion: We recognize that the dual goals of supporting practices that are both innovative and evidence-based have the potential to limit the universe of applicants. In order to expand the reach of the i3 program and encourage entities that have not applied previously for an i3 grant, we will add a priority for “novice i3 applicants,” meaning applicants that have never received an i3 grant. Although this priority will provide an incentive for new applicants, we do not think it will discourage applicants with multiple partners from applying for i3 grants, particularly given the high volume of applications the i3 program, particularly the Development grant competition, typically receives. However, because we do not want to discourage applicants from seeking partnerships, we will focus the priority only on entities that have never received an i3 grant directly.

Changes: We have established a priority (Supporting Novice i3 Applicants) for an eligible applicant that has never directly received a grant under this program. We may use this priority to establish a separate competition for applicants that have never received an i3 grant or to select an application that meets this priority over an application of comparable merit that does not meet this priority (see 34 CFR 75.105(c)(2)(ii)).

Proposed Priority 1—Improving the Effectiveness of Teachers or Principals

Comment: One commenter recommended including this priority because it supports projects that will bring more highly effective teachers into high-need schools.

Discussion: We appreciate the commenter's support for this priority, and agree with the importance of ensuring that students have access to highly effective teachers and principals. That is why this priority focuses on all dimensions of the teacher and principal career path and seeks to identify effective methods for recruiting, preparing, supporting, evaluating, and retaining effective principals and teachers, particularly at schools that serve high-need students.

Changes: None.

Comment: One commenter proposed specific revisions to several of the subparts under this priority to focus more on school leadership, including developing new or improved models for principal preparation, such as leading instruction, aligning resources across classrooms, managing talent, and increasing teacher retention. The commenter proposed adding a new subpart to support projects that develop models of teacher and principal certification and licensure. The commenter also suggested that we revise subpart (c) to include models for the induction and support of novice principals in addition to novice teachers.

Discussion: We agree with the commenter about the importance of strong school leadership. Therefore, we have revised the priority to include a new subpart that specifically focuses on principal preparation and to clarify that projects under subpart (c) may propose models of induction and support that serve either teachers or principals.

However, we decline to add a subpart regarding the development of models for teacher and principal certification and licensures. Certification and licensure are typically State-level functions, and it is not clear that an applicant for an i3 program could or should develop such models, particularly as eligible entities for i3 grants do not include State agencies.

Changes: We have created a new subpart (c) that specifically focuses on principal preparation and training. Additionally, we have revised proposed subpart (c) to include models of induction and support that serve principals and re-designated it as subpart (d). With the addition of the new subpart, we re-designate proposed subparts (d)-(i) so that they are now labeled (e)-(j), respectively.

Comment: One commenter recommended that the Department require that projects focus on the recruitment of teachers to also address teacher retention. The commenter stated that the greater challenge in high-need, low-performing schools is teacher retention. Thus, according to the commenter, in order for recruitment efforts to be cost-effective, projects must also include components that provide ongoing investment in newly recruited teachers to ensure that they remain in the profession for a minimum of three to five years. The commenter also suggested that this priority focus on programs that begin recruitment and preparation for future teachers as early as middle and high school.

Discussion: We agree with the commenter that recruitment without effective induction, support, or other retention strategies would have a limited impact. However, we also recognize that the parties responsible for recruitment tend to be different than those responsible for retention. That is why we include different subparts under the priority to focus on the different dimensions of a teacher's career path. Although subpart (a) focuses on recruitment models and subpart (d) (initially proposed as subpart (c)) addresses models of induction and support to increase teacher retention, nothing in either subpart prohibits an applicant from proposing to address both recruitment and retention.

With regard to adding a subpart to this priority for projects that begin teacher recruitment as early as middle or high school, it is not clear that a project with this approach could be implemented and evaluated in the maximum funding period for a grant. The Department's current regulations authorize the Secretary to approve a project period up to 60 months (see 34 CFR 75.250). As most teachers complete postsecondary education, a project focusing on teacher recruitment with middle school students would need a minimum of 120 months (assuming one year of middle school, four years of high school, four years of postsecondary education, and one year of work). Thus, the necessary project period would be significantly longer than what the Department's current regulations allow and we do not think it would be prudent to add a subpart that would require a waiver of the regulations in order to use it. In addition, we are not aware of research that indicates that recruitment at such an early age is likely to be particularly effective.

Changes: None.

Comment: One commenter suggested revising subpart (b) of this priority to specify that teacher training include practices addressing family and community engagement.

Discussion: We agree with the commenter about the importance of including parent and community engagement in teacher training programs. However, we think that training is most effective when it is specific to the needs of the students and the surrounding community. For that reason, we already include teacher training related to parent and family engagement at the school- or district-level instead of the pre-service or preparation stage. Specifically, subpart (b) under priority 6 (Improving Parent and Family Engagement) would support projects implementing initiatives that are designed to enhance skills and competencies of school staff to build relationships and collaborate with families.

Changes: None.

Comment: One commenter suggested revising proposed subpart (f) to specify that the supports must be evidence-based and address cognitive, social, emotional, and behavioral barriers to student achievement. The commenter also recommended adding a new subpart under this priority for projects that develop high-quality pathways into schools. These would include non-university-based programs that recruit, select, train, and recommend teachers or principals to the State for certification and licensure, and full-time residency programs that develop national service members, community volunteers, and part-time educators to become credentialed teachers.

Discussion: The i3 program already requires that all projects meet certain evidence standards. Therefore, we do not think it is necessary to specify in this priority that the projects must be evidence-based. With regard to the second recommendation, as non-university-based programs could address subpart (a) under this priority, we do not think it is necessary to create a separate subpart that targets a specific type of entity or program.

Changes: None.

Comment: One commenter recommended that proposed subpart (g), increasing the equitable distribution of effective teachers or principals across schools, should also include efforts to increase the actual number of effective teachers within a high-need district. The commenter noted that, without an equal emphasis on increasing the number of effective teachers, a project could meet this priority by redistributing a relatively small number of highly effective teachers. The commenter stated that professional learning communities and induction programs for early career teachers should be supported in order to increase the number of effective teachers within a high-need district.

Discussion: We agree with the commenter that the initial wording for proposed subpart (g) (now subpart (h)) could result in projects that redistribute only a small number of highly effective teachers without significantly increasing students' access to them. Therefore, we have revised the subpart to focus on student access to effective teachers or principals.

We also agree with the commenter about the importance of increasing the total number of effective teachers in high-need districts. However, as subparts (b), (c), and (g) (initially proposed as subpart (f)) would support projects designed to increase the number of highly effective teachers, we do not think it is necessary to include the specific strategies recommended by the commenter in current subpart (h) (initially proposed as subpart (g)).

Changes: We have revised current subpart (h) (initially proposed as subpart (g)) under this priority to clarify that projects addressing this subpart must increase the equitable access to effective teachers or principals for low-income and high-need students, which may include increasing the equitable distribution of effective teachers or principals for low-income and high-need students across schools.

Comment: None.

Discussion: Under this priority, subpart (i) (initially proposed as subpart (h)) addresses the development and implementation of models that improve school conditions for teaching and learning. We intend for this subpart to promote the development and implementation of projects that allow highly effective teachers to serve more students. With this change, we have removed the explicit reference to improving conditions for teaching and learning because we consider it to be included in the identified strategies. For example, a new staffing model that relieves effective teachers of some of their administrative responsibilities in order to enable them to teach online classes to students in another school could extend the influence of highly effective teachers. We also have revised this subpart to clarify that, in addressing this subpart, projects could focus on developing and implementing strategies that allow effective teachers either to serve more students or reduce the burdens or challenges that impede them from doing so.

Changes: We have revised subpart (i) (initially proposed as subpart (h)) to clarify the types of projects it is intended to address. Specifically, this subpart will support projects that extend highly effective teachers' reach to serve more students, including strategies such as new course designs, staffing models, technology platforms, or new opportunities for collaboration that allow highly effective teachers to reach more students, or approaches or tools that reduce administrative and other burdens while maintaining or improving teacher effectiveness and efficiency.

Comment: One commenter stated that the demographic shift in the Nation is increasing the number of multilingual and multicultural classrooms and recommended that the Department address this shift by incorporating language into this priority addressing preparing teachers to work with diverse populations.

Discussion: We agree that it is important that teachers are prepared to work with diverse student populations, particularly given current demographic shifts. There is nothing that would preclude an eligible applicant from proposing projects that improve the effectiveness of teachers by increasing their ability to work with diverse student populations. However, in order to ensure flexibility for all potential applicants responding to this priority, we decline to specify the types of student populations, which could include diverse student populations, with whom teachers must be prepared work.

Changes: None.

Comment: Two commenters proposed the addition of a new subpart for projects that would improve the development of teachers and external partners working to implement expanded learning opportunities in schools. Another commenter expressed support for several of the subparts but recommended the addition of a new subpart for projects that develop models for labor-management partnerships designed to improve teacher effectiveness by having expert teachers mentor and evaluate their peers.

Discussion: The commenters' recommendations for new subparts are already addressed by other priorities. For example, subpart (a) of priority 2 (Improving Low-Performing Schools) supports projects that expand learning opportunities for both teachers and students. Similarly, applicants could propose projects that focus on labor-management partnerships and peer evaluations under subpart (f) (initially proposed as subpart (e)), provided the proposed projects otherwise meet the requirements of the subpart. Thus, we do not think it is necessary to add new subparts under priority 1 (Improving the Effectiveness of Teachers or Principals).

Changes: None.

Comment: One commenter expressed concern that this priority does not encourage teachers to use practices that would drive the development and implementation of new “learning environments.” The commenter recommended the i3 program support projects that would equip teachers with knowledge of the science of learning and youth development and with the skills needed to analyze data and develop assessments, to advance the use of expanded learning time, to collaborate effectively, and to make better use of technology.

Discussion: We agree that it is important for teachers to have the knowledge and skills suggested by the commenter. However, because these topics are addressed in other priorities, we decline to add additional subparts under this priority. For example, priority 2 (Improving Low-Performing Schools) includes subparts that focus on extending and enhancing learning time and priority 8 (Effective Use of Technology) includes subparts that focus on developing methods and resources to increase the use and integration of technology to improve teaching and learning.

Changes: None.

Comment: None.

Discussion: As part of our internal discussion of the comments on this priority, we noted that a number of the proposed subparts refer to “developing” models or methods. As all i3 grantees must implement the practices they develop to serve students who are in grades K-12 at some point during the funding period, we have revised these subparts to clarify that the projects under these subparts must both develop and implement the proposed models or methods.

Changes: We have revised subparts (a), (b), and (d) (initially proposed as subpart (c)) from “developing” to “developing and implementing” in order to clarify our intent that applications addressing these subparts must implement the practices that they develop during the project period.

Comment: None.

Discussion: As part of our internal discussion of the comments on this priority, we noted that subpart (f) (initially proposed as subpart (e)), included an inconsistency in the use of “teachers or principals.” Specifically, the subpart focused on designing and implementing “teacher or principal evaluation systems,” but also referred to feedback that guides professional development for “teachers and principals.” To ensure that applicants understand that they may focus on teachers or principals when submitting projects under this subpart, we have revised it so that we consistently refer to “teachers or principals.”

Changes: We have revised subpart (f) (initially proposed as subpart (e)) from “* * * guides professional development for teachers and principals” to “* * * guides professional development for teachers or principals” in order to clarify our intent that applications addressing this subpart may focus on either teacher or principal evaluation systems.

Proposed Priority 2—Improving Low-Performing Schools

Comment: One commenter recommended that the Department revise this proposed priority to include the use of arts education to academically engage students as an example of strengthening the instructional program in a whole-school model. The commenter also recommended adding a subpart for projects proposing to develop arts education programs and improve the skills of arts educators. Another commenter offered a similar recommendation, suggesting the Department revise subparts (a) and (d) of this priority to include a focus on student's health and nutrition as a part of designing whole-school models.

Discussion: Subpart (a) provides examples of strategies that may be used in whole school models. However, these strategies are broad, concerning changes to a school's design, instructional program, staffing, or culture. We do not think it is appropriate for the Department to prescribe the specifics of how applicants must implement these strategies (e.g., arts education), because we want to ensure applicants have as much flexibility as possible to propose whole-school models that best meet the needs of the students and schools they are proposing to serve. As nothing in this priority prohibits an applicant from proposing to use arts education to strengthen the instructional program in a whole-school model, we do not believe an additional subpart is necessary.

We agree with the commenter that a student's health and nutrition affects the student's ability to learn. That is why proposed subpart (a) references strategies that address non-academic factors that affect student learning and proposed subpart (d) focuses on services and strategies that address non-academic barriers to student learning. Because health and nutrition services may be addressed under this priority, we do not think it is necessary to create a separate subpart that focuses only on health services. Moreover, as noted previously, applicants should have the flexibility to identify the specific non-academic barriers and strategies to address those barriers that are relevant to their particular project.

However, we have revised subpart (d) to clarify that projects also may focus on mitigating the effects of poverty, including health and nutrition issues, on student engagement in learning. In addition, because we think it is important that the social supports provided under this priority relate to improved student outcomes, we have revised subpart (d) to focus on the intended outcomes rather than the specific type of strategies that an applicant must be use.

Changes: We have revised subpart (d) to focus on projects that are designed to improve students' non-cognitive abilities and enhance student engagement in learning, or that mitigate the effects of poverty, including physical, mental, or emotional health issues, on student engagement in learning.

Comment: One commenter discussed the distinction between whole-school reform efforts and “wraparound” social supports that might result in targeted interventions that do not affect all students in a school. The commenter encouraged the Department to look beyond whole-school efforts because some interventions may not be as efficient or effective if offered to an entire school population.

Discussion: We agree that whole-school reform models may not be the most appropriate option for all schools. That is why under this priority we include multiple subparts that address different types of interventions for turning around low-performing schools. However, we disagree with the commenter's conclusion that a whole-school reform model requires that all students receive the same set of services or interventions. For example, a whole school reform model could strengthen a school's instructional program by providing personalized learning experiences that address each student's unique needs. Under this scenario, a whole school reform model would be used to provide each student with a unique, as opposed to identical, set of services.

Additionally, we consider whole-school reform to be a powerful and important approach that is effective, in certain contexts, in improving student outcomes. Therefore, we believe it is important to include a subpart in this priority that specifically addresses whole-school reform models and have revised subpart (a) to clarify that the intent is to support projects that lead to significant and sustained improvement in individual student performance and overall school performance and culture.

Although we agree that whole-school reform efforts are distinct from targeted approaches to reforming low-performing schools, we also believe that it is essential for applicants to ensure that their proposed projects complement the broader turnaround efforts of the school, LEA, or State. We have revised the requirements of this priority to clarify this expectation.

Changes: We have revised subpart (a) to clarify that projects addressing subpart (a) must implement processes that lead to significant and substantial improvement in individual student performance and overall school performance and culture. In addition, we have provided examples of the types of strategies applicants may incorporate into their proposed whole-school models. We also have revised the requirements of priority 2 to include a condition that projects complement broader reform efforts for turning around low-performing schools.

Comment: Five commenters recommended the Department revise the language in subpart (a) “redesigning the school day, week, or year” to “extending or expanding the school day, week, or year” in order to clarify that before-, after-, and summer school programs would meet this priority. Three of these commenters also suggested a similar revision to subpart (e). One commenter noted that extending the school year might reduce summer learning loss, and provide additional time for high school students to focus more on work-based learning, service-learning, or various other learning opportunities.

Discussion: Applicants may propose projects under subpart (a) that redesign the school day by extending or expanding the school day, week, or year, including before-, after-, and summer school programs, provided their proposed projects meet the requirements of the priority. We decline to change the language of subpart (a) as the commenter suggested because we do not think adding time to the school day, week, or year, unless done in conjunction with other strategies or reforms, is sufficient to meet the requirements of this priority.

However, we recognize that extending learning time is one way that schools can change their organizational design, and we have therefore revised subpart (b) to include a greater focus on organizational design. As proposed, subpart (b) focused on changing elements of a school's organizational design to mitigate non-academic barriers to learning through strategies such as differentiating staff roles, changing student groups, or enhancing instructional time. Because subpart (a) addresses particular approaches for school turnaround that can be undertaken within a school's existing organization, we have modified subpart (b) to include a greater focus on extending and enhancing instructional time and the organizational implications associated with improving instruction by extending learning time.

Changes: We have revised subpart (b) to support projects that would change elements of the school's organizational design to improve instruction by differentiating staff roles and extending and enhancing instructional time.

Comment: One commenter suggested that, in addition to increasing the rigor of instructional practices, subpart (a) should address students' access to rigorous coursework at the secondary level. The commenter also recommended that the Department create a new subpart under this priority to support competency-based systems that measure the effects of these practices on increasing graduation rates and student learning.

Discussion: Nothing in this priority prohibits an applicant from proposing to strengthen the instructional program in a whole-school model by increasing students' access to rigorous coursework at the secondary level or implementing a competency-based system. Because these activities are permissible under subpart (a) and we want to ensure applicants have as much flexibility as possible to propose whole-school models that best meet the needs of the students and schools they are proposing to serve, we do not think it is necessary to revise subpart (a) or establish a separate subpart that addresses only these approaches.

Changes: None.

Comment: One commenter suggested adding personalized instruction enabled by technology as an example of a reform strategy in subpart (a). The commenter noted that using differentiated instructional content allows for the effective and efficient use of data in determining the needs of students struggling in low-performing schools.

Discussion: As noted in response to a prior comment on priority 2, we do not think it is appropriate for the Department to prescribe how applicants would strengthen the instructional programs because we think it is important for applicants to have as much flexibility as possible to propose whole-school models that best meet the needs of the students and schools they are proposing to serve. To that end, we provide applicants discretion in proposing how they would strengthen the instructional program in a whole-school model; and nothing prohibits applicants from using personalized instruction. For these reasons, we decline to revise subpart (a). However, we have revised subpart (a) under priority 8 (Effective Use of Technology) to clarify that to meet subpart (a), projects must focus on personalized instruction. As the subpart language maintains that the learning experiences must be adaptive and self-improving, we do not think this change loses the subpart's focus on learning experiences that improve or adapt based on students' needs in real-time.

Changes: We have revised subpart (a) under priority 8 (Effective Use of Technology) to clarify that the learning experiences must be personalized to individual students' learning needs, as opposed to simply providing adaptive learning experiences.

Comment: Three commenters suggested that the Department clarify that the reference to external partners in subpart (e) includes results-driven organizations, intermediaries, professional providers, national service members, and community volunteers.

Discussion: We think an applicant is best suited to select the external providers or partners for its project. Because we do not want to narrow the potential for external partnerships, we decline to list the types of external partners with which an applicant may work.

To ensure projects under subpart (e) are designed to increase schools' and districts' access to high-quality partners, we have revised this subpart to focus on the intended outcomes for schools and districts rather than on developing the capacity of external partners.

Changes: As noted in response to a prior comment on priority 2, we have revised subpart (e) to clarify that projects addressing it must support low-performing schools or districts in their turnaround efforts by increasing access to and use of high-quality partners.

Comment: One commenter recommended this priority be revised to support fundamental changes to schools' governance and management structures that impede school innovations or educator and student engagement.

Discussion: Subpart (f) under this priority supports projects that are designed to increase capacity at the school, district, and State levels to improve the support and oversight for turnaround efforts. Thus, projects could include a focus on improving governance and management structures that may impede a school's turnaround efforts. To clarify that applicants may propose a variety of approaches under this subpart (e.g., changing governance and management structures), we have revised it to focus on the intended outcomes of increased capacity (i.e., better support and oversight), thus encouraging applicants to develop approaches that are appropriate to their specific contexts and challenges.

Changes: As noted previously, we have revised subpart (f) to clarify that projects must be designed to increase district- or State-level capacity to turn around low-performing schools, including improvements to State and district support and oversight of turnaround efforts.

Comment: None.

Discussion: Although recent reports indicate that the Nation's dropout rate is decreasing, the rate is still much higher than in other developed countries. To address this, we have added a subpart that specifically focuses on serving low-performing high schools and their turnaround efforts. This subpart is written broadly to provide applicants discretion in how best to serve these schools and may include projects that focus on the use of early warning indicators to identify students who are at risk of dropping out.

Changes: We have added subpart (g) to this priority for projects that support the implementation of turnaround efforts in secondary schools.

Proposed Priority 3—Improving Science, Technology, Engineering, and Mathematics (STEM) Education

Comment: Two commenters expressed general support for this priority. One commenter stated that K-12 education must continue to be a priority in Federal programs and noted that the i3 program has the potential to identify effective science instruction programs that could make use of informal learning institutions, such as science centers and museums. One commenter reflected on the need for high quality teachers in STEM subject areas, and applauded the Department's recognition of this need.

Discussion: We appreciate the commenter's support for this priority and agree with the importance of ensuring students' access to high-quality STEM education. That is why this priority focuses on students' access to rigorous STEM coursework and learning, redesigning STEM course content and instructional practices, and improving the STEM teacher pipeline. With regard to the need for high quality teachers in STEM subject areas, subpart (c) targets projects that propose to develop new methods and resources for recruiting individuals with STEM expertise into teaching.

Also, as noted previously, all i3 grantees must implement (as well as develop) practices that serve K-12 students at some point during the funding period. Thus, we have revised this subpart to clarify that the projects must develop and implement methods and resources for recruiting individuals with STEM expertise into teaching. Similarly, we have revised subpart (g) to clarify that teachers or educators of STEM subjects who participate in projects addressing subpart (g) must receive, not just have increased opportunities for, high-quality preparation and teacher development.

Changes: We have revised subpart (c) to focus on projects that develop and implement new methods and resources for recruiting individuals with STEM expertise into teaching. We also have revised subpart (g) to clarify that projects addressing subpart (g) must increase the number of individuals from groups traditionally underrepresented in STEM, including minorities, individuals with disabilities, and women, who are teachers or educators of STEM subjects and receive high-quality preparation or professional development.

Comment: Three commenters recommended that the Department include increased access to coursework in environmental literacy as a subpart under this priority. The commenters stressed that environmental literacy is critical to the Nation's economy and noted the correlation between environmental education and student engagement and achievement in STEM subjects.

Discussion: We recognize the importance of environmental education, and it is part of STEM education. As subpart (a) focuses on providing students with increased access to rigorous and engaging coursework in STEM, which could include environmental education, and in order to ensure applicants have flexibility in responding to this subpart, we do not think it is appropriate to add a separate subpart that focuses only on one STEM subject.

Changes: None.

Comment: Two commenters discussed concerns regarding student access to STEM education. One commenter recommended that the Department encourage the development and use of more online learning tools to increase access to the most effective STEM courses, while the other commenter suggested that the Department amend subparts (a), (b), and (d) to require applicants to use high-quality multiplatform digital content and services.

Discussion: Nothing in this priority or the authorizing statute prohibits an applicant from proposing to use online learning or multiplatform digital content to increase student access to STEM content. Thus, applicants have the discretion to propose to use the approaches specified by the commenter. We decline to make the proposed revisions, however, because we do not want to prescribe the specific tools or approaches an applicant must use to increase students' access to STEM content.

Changes: None.

Comment: One commenter recommended that, in addition to a focus on expanding opportunities for high-quality out-of-school and extended-day activities under subpart (e), the Department require STEM-related community problem-solving and service learning. Additionally, the commenter suggested the Department include a subpart for projects designed to integrate STEM learning across other K-12 academic areas.

Discussion: Nothing in this priority or the authorizing statute prohibits an applicant from proposing to use service learning in responding to subpart (e), so long as the proposed project is designed to provide students with opportunities for deliberate practice that increases STEM learning, engagement, and expertise. We decline to make the proposed, specific revisions because we do not want to narrow or prescribe the types of out-of-school or extended-day activities that an applicant may propose.

Similarly, we decline to add a subpart that would require applicants to integrate STEM learning into other K-12 academic areas because we do not want to prescribe how applicants would propose to increase student access to rigorous or engaging coursework in STEM. Further, nothing in the statute or priorities prohibits an applicant from proposing a project that integrates STEM learning across other K-12 academic areas. For example, under subparts (a) and (b) of this priority as well as subpart (a) of priority 2 (Improving Low-Performing Schools), an applicant could propose integrating STEM across other K-12 academic areas, provided the applicant meets the requirements of the priority under which it is submitting its application.

Changes: None.

Comment: Two commenters recommended adding language to subpart (e) that would increase opportunities for high-quality expanded learning opportunities, including extending the day, week, or year, or before-, after-, or summer school programs. The commenters stated that implementing expanded learning opportunities will provide students with a well-rounded education that focuses on multiple STEM subjects.

Discussion: We agree that expanding STEM learning opportunities may include extending the school day, week, or year, or implementing before-, after-, or summer school programs. Therefore, we have revised the priority to include this as an example of an approach that may be used to address subpart (e).

Changes: We have revised subpart (e) to clarify that expanding STEM learning opportunities may include extending the day, week, or year, or implementing before- or after-school or summer learning programs.

Proposed Priority 4—Improving Academic Outcomes for Students With Disabilities

Comment: Four commenters proposed specific revisions to this proposed priority to reinforce the importance of ensuring that students with disabilities are provided with opportunities to participate and progress in general education classrooms. Additionally, the commenters suggested that subpart (d) include transition and postsecondary programs, and they suggested including two new subparts addressing post-school employment data collection and the implementation of school-wide initiatives that benefit all students, such as UDL, multi-tiered systems of supports, and positive behavior interventions and supports.

Discussion: We agree with the commenters about the importance of providing students with disabilities with opportunities to participate in general education; and therefore have revised subpart (c) accordingly. Specifically, we clarify that projects must be designed to accelerate student achievement and the appropriate transition from restrictive settings to more inclusive settings or general education classes or programs, including strategies that improve student learning and developmental outcomes (i.e., academic, social, emotional, or behavioral). We also note that these projects may include appropriate strategies to prevent unnecessary suspensions and expulsions from these more inclusive settings, classes, or programs.

With regard to the commenters' recommendation to focus on collecting data on postsecondary and post-school employment outcomes, we agree that the data collection on, and understanding the indicators that predict success of, students with disabilities in their transition to postsecondary education is important. However, given that the i3 program focuses on K-12 education and that the Secretary may only award grants with project periods up to 60 months (see 34 CFR 75.250), we do not think it is reasonable to add a subpart that focuses only on post-secondary school employment data. As such, we have revised subpart (d), but we decline to propose a new subpart focused solely on employment data.

With regard to the commenters' recommendation that we add a subpart on school-wide initiatives that include multi-tiered systems of support, we agree it is important that the various systems of support for students with disabilities and their families are coordinated across all service providers, including schools, health care providers and social service agencies. That is why we included proposed subpart (a). However, we recognize that as proposed, subpart (a) focused only on technical assistance programs. Therefore, we have revised this subpart to provide for a broader focus that may include school-wide programs.

Changes: We have revised three subparts under this priority. Subpart (a) has been revised to support projects that implement coherent systems of support that appropriately coordinate and integrate programs to address the needs of children and youth with disabilities and improve the quality of for those children and their families.

Subpart (c) has been revised to support projects that design and implement strategies that improve student achievement for students with disabilities in inclusive settings, including accelerating student development and the transition from restrictive settings to inclusive settings, including general education classes or programs.

Subpart (d) has been revised to support projects that improve secondary and postsecondary data collection and tracking of academic and related outcomes for students with disabilities to understand their transition into postsecondary education and the factors associated with their success.

Comment: One commenter expressed support for this proposed priority and encouraged the Department to fund projects that would produce information about interventions that are successful in decreasing the achievement gap between students with disabilities and students without disabilities.

Discussion: All i3 grantees are required to participate in communities of practice and to produce evaluations about the implementation and efficacy of their projects. Therefore, we do not think it is necessary to create a separate requirement under this priority for projects to produce information about interventions that are successful in decreasing the achievement gap between students with disabilities and students without disabilities.

Changes: None.

Proposed Priority 5—Improving Academic Outcomes for English Learners (ELs)

Comment: One commenter stated that teachers of English for Speakers of Other Languages (ESOL) often do not have the necessary content knowledge to be the primary educators for ELs. For this reason, the commenter expressed concern that the proposed priority would not produce significant change because it focuses too much on improving ELs' vocabulary. According to the commenter, the priority would be improved if it included systematic reforms that ensure students who are ELs are not marginalized. The commenter recommended systemic reforms that include, for example, specific supports and processes to improve ELs' transition between K-12 grades and from K-12 to postsecondary education.

Discussion: We recognize that systematic reforms are the most comprehensive approach to addressing ELs' learning needs. However, we also recognize that schools and LEAs may have different needs regarding how to best improve academic outcomes for ELs. That is why under this priority we include multiple subparts that address different types of interventions, ranging from systematic reform to specific gaps or challenges for addressing ELs' learning needs. For example, subpart (d) allows for a systematic approach because it focuses on projects that provide school-wide professional development for teachers, administrators, and other personnel in schools with a significant percentage of students who are ELs. Because a subpart under this priority does allow for projects that focus on systematic reform to improve student achievement for ELs and because we think it is important to also include subparts that focus on specific gaps, we conclude that is not appropriate for the Department to prescribe that applicants must only address ELs' needs through systematic reform.

Additionally, because one of the primary goals of the i3 program is to identify and document best practices, we think it is important to maintain subparts under this priority that would support projects that focus on specific challenges, needs, or gaps that affect all students, including students who are ELs.

Changes: None.

Comment: One commenter recommended that the priority include a subpart to develop and strengthen teacher preparation programs that provide substantial clinical experiences and develop curricula to prepare teachers of ELs. Specifically, the commenter stated that the way in which language is used for academic purposes within a given domain and the differences of individual ELs are important; and, as a result, more attention is needed to developing teachers who can meet the widely differing needs of ELs when the teachers enter the classroom.

Discussion: Although we agree that teachers entering the classroom should be prepared to meet the needs of all of their students, including ELs, we think the limited funds available for the i3 program should be focused on improving the skills of current EL educators rather than on improving teacher preparation programs' focus on ELs in particular. Therefore, we decline to make the changes recommended by this commenter.

Changes: None.

Comment: One commenter expressed support for this proposed priority, particularly subparts (c) and (d); and recommended revising subpart (d) to also focus on improving the capacity of schools and districts to increase the number of teachers trained to work with linguistically diverse students.

Discussion: We agree that it is important for schools and districts to consider ways to increase the number of current teachers trained to work with ELs. We believe that this is already reflected in the current priorities. For example, nothing prohibits an applicant from focusing on increasing the number of teachers trained to work with ELs under subparts (a) and (b) of priority 1 (Improving the Effectiveness of Teachers or Principals). Moreover, in order to avoid the marginalization of ELs, this priority incorporates school-level interventions that respond to student needs.

Changes: None.

Comment: In response to the Department's specific request for comment, three commenters recommended the Department allow applicants to propose projects that address instruction in English and a language other than English to meet subpart (c). One commenter stated that using a student's native language to learn a second language is consistent with practices in many States and districts that employ dual-language immersion and other bilingual methodologies. Thus, the commenter suggested that limiting subpart (c) to projects addressing instruction in English only may reduce the number of entities that could apply. Similarly, another commenter stated that the Department's rules should not limit school districts to a predetermined instructional methodology because this could limit the potential for learning about effective instructional strategies under the i3 program. One commenter urged the Department to encourage applicants to consider all products and processes available when addressing this proposed priority.

Discussion: The Department appreciates the commenters' responses to this request for comment. We conclude that we will continue to use the phrase, “English or English and another language” to ensure that we do not inadvertently limit the potential applicants under subpart (c) of this priority.

Changes: None.

Comment: One commenter expressed concern that the proposed priority reinforces false stereotypes by referring to limitations or impediments of ELs. To address this concern, the commenter provided revised text to focus on the range of academic language that all students must master to fully engage in their learning. The commenter also suggested clarifying that applicants applying under subpart (e) must focus on all students who enter school as ELs so that long-term outcomes of former ELs are considered.

Discussion: We agree with the commenter and have revised subpart (b) to clarify that projects funded under it need to provide sufficient exposure to, engagement in, and acquisition of academic language and literacy practices necessary for preparing ELs to be college and career ready. We also have revised subpart (e) as the commenter suggested.

Changes: We have revised subpart (b) to clarify the skills a project needs to address with regards to ELs' acquisition of academic language and literacy practices. We also have revised subpart (e) to clarify that teacher evaluation systems implemented under this priority define and measure the effectiveness of teachers of students who at some point have been identified as ELs (i.e., both current and former ELs).

Proposed Priority 6—Improving Parent and Family Engagement

Comment: One commenter expressed support for the proposed priority, and appreciated the focus on providing training to families to support their children's academic success, as well as professional development for administrators and teachers designed to improve relationships between parents and school staff.

Discussion: We appreciate the commenter's support for this priority. Subpart (a) addresses the need for building parents' and families' awareness of their role in improving their children's educational outcomes while subpart (b) focuses on projects designed to build relationships between parents and school staff. Together these subparts aim to increase family engagement to improve support for student and school achievement. In order to further clarify that improving students' academic outcomes is the ultimate goal of this priority, we have included specific academic outcomes under subpart (a).

Changes: We have revised subpart (a) to clarify that training for parents and families must provide the skills and strategies that will help parents and families improve their children's academic outcomes, including increased engagement and persistence in school.

Comment: Three commenters recommended that the Department include, under subpart (a), training for parents and families of students with disabilities on ways to participate and make progress in a grade-level general education curriculum in the least restrictive environment.

Discussion: All i3 grantees must implement practices designed to improve academic outcomes for high-need students (as defined in this document). Therefore, projects addressing this priority must serve high-need students, which may include students with disabilities. Nothing in this priority precludes an applicant from proposing projects that focus on parents and families of students with disabilities, provided that the proposed project otherwise meets the requirements of the priority and therefore we are not changing the subpart language as requested.

Changes: None.

Comment: One commenter suggested revising subpart (d) to specify that the data and information collected on students' progress must include targeted “parent-level” metrics, such as math and verbal achievement, high school graduation rates, college enrollment rates, and number of credits accumulated.

Discussion: Although we appreciate the commenter's recommendation that the Department specify the data and information that projects under subpart (d) would need to collect, we do not want to narrow the projects that could be proposed or funded under this priority by prescribing a required list of metrics. Moreover, nothing in the statute or priorities would preclude an applicant from including “parent-level” metrics in addition to information about students' progress and performance.

However, we share the commenter's underlying concern that data about student performance should, among other things, be relevant and useful to parents. Access to data does not ensure its relevance or usefulness to parents. Thus, we have revised subpart (d) to clarify that the projects must improve both parents' access to and use of data about students' progress and performance, as opposed to only improving parents' access to data.

Changes: We have revised subpart (d) to clarify that projects addressing subpart (d) must develop tools or practices that provide students and parents with improved, ongoing access to, and use of, data and other information about students' progress and performance.

Comment: One commenter stated that the i3 program should make explicit allowance for the training and professional development of teachers, school leaders, and other school-based personnel regarding acquisition and maintenance of the specific knowledge, skills, and abilities required to effectively engage families and communities to improve student outcomes. To that end, the commenter provided specific revisions that require evidence-based initiatives and access to meaningful data to track students' progress. Additionally, the commenter proposed two new subparts under this priority: (1) Purposefully connecting the school with the family and community through a school-based facilitator, and (2) implementing initiatives that develop family and community leadership to sustain school improvements.

Discussion: We agree with the commenter about the importance of enhancing teachers' abilities to effectively engage families to improve student outcomes. That is why subpart (b) supports projects designed to enhance the skills and competencies of school staff to build relationships and collaborate with parents and families.

With regard to the commenter's proposal to require evidence-based initiatives and access to meaningful data to track students' progress, we note that this program requires projects to meet specific evidence standards. Similarly, all i3 grantees are required to conduct evaluations that estimate the impact of their projects on student outcomes. Therefore, we do not think it is necessary to specify evidence or data collection requirements under this priority.

We appreciate the commenter's recommendation that we add two new subparts. However, as subpart (c) does not preclude projects that would support connecting school-based facilitators with families and the community, or projects that would develop and implement initiatives that bolster family and community leadership for sustained school improvement, we do not think it is appropriate to add new subparts that could limit applicants' flexibility in designing their proposed projects. Additionally, although we recognize the importance of community engagement, we conclude that it is not necessary for the Department to revise this priority to address it because the Supplemental Priorities include a priority that does so and the i3 program could use that priority. See priority 5 of the Supplemental Priorities, Improving School Engagement, School Environment, and School Safety and Improving Family and Community Engagement.

Changes: None.

Comment: None.

Discussion: As part of our internal discussion of the comments about this priority, we noted that proposed subpart (b) refers to “school and other administrative staff.” In order to ensure applicants understand that we consider teachers to be school staff, we have revised subpart (b) to explicitly list teachers in addition to school and other administrative staff.

Changes: We have revised subpart (b) to clarify that, when addressing this subpart, applicants must implement initiatives that are designed to enhance the skills and competencies of teachers, and of school and other administrative staff in building relationships and collaborating with students' families, particularly those who have been underengaged with the school(s) in the past, in order to support student achievement and school improvement.

Proposed Priority 7—Improving Cost-Effectiveness and Productivity

Comment: One commenter expressed concern about the focus on cost-effectiveness because it may emphasize budgetary issues over educational “ends.”

Discussion: We appreciate and recognize the commenter's concern; however, it is essential for schools and LEAs to closely examine their spending practices and reallocate resources to use them more efficiently and cost-effectively. The i3 program's focus on cost-effectiveness is consistent with the Department's broader initiative to encourage and support schools, LEAs, and States to “do more with less” through the adoption of promising practices and the responsible use of resources. We do not intend for this focus to overshadow the importance of the i3 program's requirement of implementing projects designed to improve student achievement. Additionally, we establish selection criteria that peer reviewers will use to consider the likelihood that a proposed project will achieve what it is designed to achieve and the extent to which a proposed project substantially improves outcomes. By using such criteria to evaluate applications, the Department encourages the adoption of cost-effective practices while also providing peer reviewers a mechanism to consider the cost and expected outcomes together.

Changes: None.

Comment: One commenter suggested revising this priority to specify the ways in which projects are to improve cost-effectiveness, including school-community partnerships.

Discussion: Under section 14007 of the ARRA, in order to be eligible for i3 grants, applicants must demonstrate that they have established partnerships with the private sector and that the private sector will provide matching funds to help bring results to scale. Moreover, we recognize that using external partnerships is one approach to improving cost-effectiveness. However, because nothing in the ARRA or this priority precludes an applicant from proposing projects that improve cost-effectiveness through such partnerships, we do not think it is appropriate to prescribe that applicants must use school-community partnerships to meet this priority.

Changes: None.

Proposed Priority 8—Effective Use of Technology

Comment: One commenter expressed strong support for this proposed priority, and recommended that applicants applying under any of the other proposed priorities also identify how technology would be used to advance the proposed projects. The commenter specifically cited proposed priorities 1 (Improving the Effectiveness of Teachers or Principals), 2 (Improving Low-Performing Schools), and 6 (Improving Parent and Family Engagement) as priorities under which applicants should be expected to address the use of technology in their applications and receive preference for doing so.

Discussion: While we encourage applicants to propose projects that use technology effectively, we do not think it is appropriate to require all applicants to design their projects around the use of technology. Nothing in any priority or the authorizing statute prohibits an applicant from proposing to use technology in a proposed project, provided that the use of technology is necessary for carrying out the proposed project and that the project otherwise meets the requirements of the priority.

Changes: None.

Comment: One commenter stated that the topics included in the subparts under this priority have been addressed and improved over time. The commenter further stated that adopting existing, effective uses of technology, such as online or blended learning, must be promoted.

Discussion: The i3 program aims to support expanding effective practices to serve more students across schools, districts, and States and to identify new solutions to pressing challenges. With that goal in mind, we designed this priority to support projects that focus on adopting or augmenting existing practices or developing new practices that use technology effectively to improve student achievement.

Changes: None.

Comment: Two commenters recommended that the Department add a new subpart under this priority for projects that integrate technology into expanded learning opportunities.

Discussion: Nothing in the authorizing statute or this priority precludes an applicant from proposing a project that integrates technology into expanded learning opportunities, provided that the project otherwise addresses the requirements of the priority. For example, applicants have discretion to propose such projects under subpart (e). We think that the applicants are best suited to determine how to integrate the effective use of technology into their proposed projects, and we do not think it is appropriate to create a subpart that focuses only on integrating technology to expand learning opportunities.

Changes: None.

Comment: One commenter agreed with the focus on using technology to improve instruction and increase access to high-quality learning opportunities. But the commenter also stated that the priority should be strengthened by encouraging applicants to approach technology acquisition and use in a manner that would provide teachers more time for individualized instruction and for establishing student-centered classrooms. The commenter also recommended that applicants addressing this priority should be expected to provide implementation strategies that would ensure that technology would be used to promote equity rather than exacerbate existing student achievement gaps. The commenter also stated that applicants should be required to ensure equitable access to the necessary technology so that no students are excluded due to a lack or shortage of the necessary technology.

Discussion: We agree with the commenter's recommendation that this priority support projects designed to use technology to provide students more time for individualized instruction. Therefore, we have modified subpart (a) to clarify that the learning experiences must be personalized and focus on students with a variety of learning needs.

We also agree that applicants proposing projects under this priority should consider how the proposed implementation strategies would ensure equitable access to the technology. Section 427 of the General Education Provisions Act (GEPA) addresses equitable access by requiring all applicants to provide a statement that identifies access barriers to participation in their projects and identifies solutions to overcome those barriers.

With regard to the commenter's concern about shortage of the necessary technology, we use selection criteria to consider the extent to which the applicant has planned for sufficient resources to carry out the project. For example, the selection criterion on the quality of the management plan includes a selection factor that considers the extent to which the applicant demonstrates it will have the resources to operate the project at the proposed level of scale during the grant period. This selection factor provides peer reviewers with a mechanism to consider whether an applicant has sufficient resources to carry out the project, which may include whether the applicant's plan ensures equitable access to the technology being implemented.

However an applicant chooses to ensure full and equitable access to the technology being used in the proposed project, we do not want projects funded under this priority to exacerbate inequities for students. Thus, we have revised subpart (b) to clarify that projects must provide students and teachers with equitable access to “anytime, anywhere” learning materials and experiences. We have also revised subpart (c) to include closing achievement gaps as a required outcome for projects addressing the subpart. Both of these revisions mitigate the risk that existing inequities or gaps would be compounded by projects addressing this priority.

Changes: We have revised subpart (b) to require applicants to propose projects that provide students and teachers with equitable “anytime, anywhere” access to learning materials and experiences. We have revised subpart (c) to require that projects must, in addition to improving student achievement (as defined in this document), also be designed to close achievement gaps.

Comment: Three commenters stated that technology is critically important to improving instruction for students with disabilities, and recommended that the Department revise subparts (c) and (f) to require that technology methods, resources, and integration be consistent with principles of UDL.

Discussion: We recognize and agree that technology is an effective tool for improving instruction for students with disabilities. However, we do not think it is appropriate to prescribe a single approach or principle that all applicants must use when integrating technology into their projects. Additionally, nothing in the statute or the priority prohibits an applicant from using the approach or principle it determines to be most suitable for its project.

In order to comply with the requirements of the Americans with Disabilities Act of 1990 and Section 504 of the Rehabilitation Act of 1973, as amended, any technology used by recipients must be accessible to individuals with disabilities. For additional information about the application of these laws to technology, please refer to www.ed.gov/ocr/letters/colleague-201105-ese.pdf and www.ed.gov/ocr/docs/dcl-ebook-faq-201105.pdf. Provided the requirements of the civil rights laws and the priority are met, an applicant may propose a project under this priority that uses technology methods, resources, and integration that are consistent with the principles of UDL.

Changes: None.

Comment: One commenter urged the Department to include in the priority other educators who may not be teachers of record, such as media specialists or instructional aides, but who have instructional responsibilities in projects that are designed to use technology to improve instructional effectiveness.

Discussion: Nothing in the authorizing statute or this priority prohibits eligible applicants from including staff who are not teachers but have instructional responsibility in their projects. We decline to specifically reference these educators in the priority to ensure applicants have the maximum flexibility when developing their proposals.

Changes: None.

Comment: One commenter described this priority as “strongly written and comprehensive.” Although the commenter applauded the Department's commitment to encouraging adaptive learning experience and “anytime, anywhere” access to academic content and learning, the commenter suggested the Department clarify that technological tools are understood to be used for both instructional and assessment purposes.

Discussion: The Department agrees that “anytime, anywhere” access to academic content may include technological tools that are used for purposes of instruction, assessment, or both. Because we do not want to limit the types of content and learning that may be used in projects under subpart (b), we have revised this subpart to focus on access to learning materials and experiences instead of access to “academic content.”

Changes: We have revised subpart (b) to focus on learning materials and experiences.

Comment: None.

Discussion: As part of our internal discussion of the comments about this priority, we noted that proposed subpart (f) did not include a reference to the intended outcomes for projects integrating technology with the implementation of college- and career-ready standards. In order for the use or integration of technology to be effective, we believe it is important that projects addressing this subpart focus on improving student and teacher outcomes. Thus, to correct this oversight, we have revised subpart (f) to include these outcomes, as we have done with other subparts, and to clarify that embedded, real-time assessments and feedback for students and teachers are examples of projects that could be proposed under this subpart.

Change: We have revised subpart (f) to clarify that projects integrating technology with the implementation of rigorous college- and career-ready standards must be designed to increase student achievement (as defined in this document), student engagement, and teacher efficacy, such as by providing embedded, real-time assessment and feedback to students and teachers.

Comment: None.

Discussion: As part of our internal discussion of the comments on this priority, we noted an oversight in how subpart (d) was phrased. Specifically, the subpart only referred to the outcome that would need to be achieved, but did not clarify that projects addressing it would need to implement strategies to achieved the stated outcomes. As all i3 grantees must implement the practices that serve students who are in grades K-12 at some point during the funding period, we have revised this subpart to clarify that the projects addressing it must implement strategies that improve student proficiencies.

Changes: We have revised subpart (d) in order to clarify our intent that applications addressing this subpart must implement strategies that improve student proficiencies in complex skills, such as critical thinking and collaboration across academic disciplines.

Proposed Priority 9—Formalizing and Codifying Effective Practices

Comment: A few commenters suggested clarifying that, under this proposed priority, an applicant must address the proposed practice's effectiveness for all learners and identify the practice's critical components for different teaching and learning environments as well as for diverse learners.

Discussion: A primary goal of this priority is to enable broad adoption of effective practices. We agree with the commenters that an applicant addressing this priority needs to evaluate different forms of a practice in order to determine whether the practice may be adapted for diverse learners. However, we recognize that some practices may be developed for, or targeted to, the needs of a specific student population and, by its very nature, may not be relevant or effective for students outside of that target group. For these reasons, we have revised the priority to clarify that applicants must address whether the proposed practice is effective for diverse learners; however, we decline to revise subpart (c) to require that applicants develop materials and tools on how to implement the practice effectively for all learners.

Changes: To clarify the goal of this priority, we have changed its title from “Formalizing and Codifying Effective Practices” to “Enabling Broad Adoption of Effective Practices.” Further, in response to comments, we have revised subpart (b) to clarify that applicants addressing this priority must identify the adaptability of the practice's critical components to diverse learners as well as to different teaching and learning environments.

Comment: One commenter expressed support for the Department's placing a high priority on sharing and disseminating effective practices under this proposed priority. However, the commenter encouraged the Department to only use this priority for the Validation and Scale-up competitions because projects under those categories are based on moderate and strong evidence of effectiveness.

Discussion: By establishing this priority, the Department may use it for any of the three types of grants under the i3 program (i.e., Development, Validation, and Scale-up). We agree with the commenter that this priority is most appropriate for i3 Scale-up and Validation grants because projects funded in those grant categories must be supported, respectively, by strong and moderate evidence of effectiveness. However, we decline to specify that the priority will be used only for a subset of i3 competition because we do not want to unnecessarily limit when this priority can be used in future i3 competitions.

The Department will consider several factors, including the level of evidence or research available, when determining which of the priorities would be most appropriate for the different types of grants offered in any given year under the i3 program.

Changes: None.

Comment: One commenter urged the Department to allow current i3 grantees to apply to extend their grants under this priority, which would allow for additional years of implementation and data collection. The commenter explained that such an approach would allow third-party evaluators to collect the data necessary to demonstrate what educational elements are required to fundamentally change a student's academic trajectory. Without the option of extending current i3 grants, the commenter stated a concern that the opportunity to learn from these grants would be limited.

Discussion: We appreciate the commenter's concern. Although we agree with the commenter about the importance of maximizing the opportunity to learn from current i3 grantees, the Department's current regulations authorize the Secretary to approve a project period up to 60 months (see 34 CFR 75.250). We decline, however, to make the suggested change for two reasons. First, the Department has, under limited circumstances, allowed for a waiver of the 60-month project period. More importantly, the Department published a notice of proposed rulemaking on December 14, 2012 that proposed amending this regulation to address this specific situation. We have concluded that the proposed revisions to EDGAR are the appropriate place to address this issue.

Changes: None.

Proposed Priority 10—Serving Rural Communities

Comment: One commenter expressed support for the proposed priority because it is not limited to projects that improve high school graduation rates and college enrollment rates and, therefore, offers a broader focus than the previous rural priority used by the i3 program. However, another commenter expressed concern that urban education is not given a similar priority under the proposed priorities as rural education, and suggested the Department utilize a separate slate for rural applicants rather than establishing a separate rural priority.

Discussion: We aim to ensure that projects serving high-need students in diverse contexts, including urban, suburban, and rural communities, are eligible to compete for i3 funding. However, we acknowledge that rural communities face unique challenges (e.g., e more limited resources than urban and suburban communities to complete for Federal funds). We also recognize that the solutions to educational challenges may be different in rural areas than in urban and suburban communities and that there is a need for solutions that are unique to rural communities. For these reasons, we have established this priority to provide a mechanism for the Department to consider rural projects under a separate funding category, which is effectively the same as considering them as part of a separate slate, while also providing applicants proposing rural projects the ability to select among the same absolute priorities as other applicants. This approach does not advantage or disadvantage rural or non-rural applicants—it just ensures that both sets of applicants are competing against other applicants that face similar problems and challenges.

Changes: None.

Requirements

Comment: Several commenters proposed revisions to the types of entities that could apply for and receive a grant under the i3 program. Four commenters requested that the Department change the categories of eligible applicants for i3 grants to include nonprofit organizations applying on their own. The commenters stated that nonprofit organizations should have the ability to develop and implement i3 grants alone, as opposed to being eligible only in partnership with LEAs or schools. However, another commenter expressed concern that the i3 program has become a revenue source for nonprofit organizations, and recommended that the Department allow only LEAs to apply as the lead applicant and fiscal agent for i3 grants.

Two commenters recommended the Department change the eligible applicants for i3 grants to include (1) tribal educational agencies (TEAs), (2) a nonprofit organization in partnership with one or more TEAs, and (3) a nonprofit organization in partnership with one or more Bureau of Indian Education (BIE) schools. These commenters also stated that the Department should clarify that BIE schools meet the definition of “LEA” under the i3 program.

Discussion: Section 14007(a)(1) of the ARRA specifies the types of entities that are eligible to apply for funding under this program. They are:

(a) An LEA

(b) A partnership between a nonprofit organization and—

(1) One or more LEAs; or

(2) A consortium of schools.

The Department has no authority to revise or expand these statutorily prescribed eligibility requirements. However, we do want to clarify that, as public schools, BIE schools are eligible to be part of the consortium of schools in a partnership applying for an i3 grant. A BIE school may also be eligible to apply as an LEA on its own, or in partnership with a nonprofit organization as an LEA, because the definition of “local educational agency” in section 9101(26) of the ESEA includes a provision under which a BIE school may be considered an LEA. If a BIE school is an LEA, the BIE school would be able to apply as an eligible LEA on its own, or in partnership with a nonprofit organization as an LEA, consistent with the requirements for eligible applicants under section 14007(a)(1).

Changes: None.

Comment: Two commenters recommended the Department require any LEA located on Indian lands to consult with the appropriate tribes and provide them with adequate time to comment on the application prior to its submission. The commenters explained that an LEA's engagement with the tribe should include direct input regarding native student education, ongoing consultation and partnership, and the sharing of best practices. The commenters stated that any LEA that does not participate in this consultation should be ineligible to receive an i3 grant.

Discussion: We agree that any LEA located on tribal lands, or proposing to address native student education of a particular tribe or tribes, should coordinate with the appropriate tribe(s) when developing an application and implementing the project. Although under the i3 program such coordination is not required, we consider collaboration and coordination among project partners to be important to the success of any project. For that reason, we include a factor under the Quality of the Management Plan selection criterion that considers the extent to which the applicant demonstrates that it will have the resources to operate the project at the proposed level of scale both during the project period and beyond the length of the grant, including the demonstrated commitment of any partners and evidence of broad support from stakeholders critical to the project's long-term success. Therefore, we do not feel it is necessary to make consultation an eligibility requirement.

Changes: None.

Comment: One commenter criticized the requirement that nonprofit organizations must identify partner districts or schools before an i3 grant is awarded because this undermines the development of effective partnerships. The commenter stated that it is critically important for nonprofit organizations proposing to conduct turnaround projects to ensure that the participating superintendents and principals are committed to the project, but the nonprofit organization is in a stronger position to select partners after receiving a grant, not before. The commenter proposed that the Department require applicants who are nonprofit organizations to specify the types of districts or schools that will participate in the project without identifying specific partners.

Discussion: As noted previously, section 14007(a)(1) of the ARRA specifies the entities eligible for funding under this program. Because the ARRA specifies that a nonprofit organization is only eligible to receive an i3 grant in partnership with one or more LEAs or a consortium of schools, we cannot award a nonprofit organization an i3 grant without any identified LEAs or schools.

Changes: None.

Comment: One commenter requested that the Department clarify that entities implementing programs that serve out-of-school youth, such as students beyond the compulsory school age or students participating in alternative education programs, are eligible to apply for i3 grants.

One commenter questioned the value of requiring that i3 projects to serve K-12 students and expressed concern that this requirement may result in applicants changing the focus on their planned interventions to serve a population for whom the intervention is not designed. The commenter further stated that this requirement conflicts with the requirement that i3 projects be supported by evidence of effectiveness, and distracts from the i3 program goal of learning what works in education.

Discussion: This requirement clarifies that the i3 program focuses on K-12 education. Although grantees are not prohibited from serving out-of-school youth or students who are beyond compulsory school age, all grantees must implement practices that serve students who are in grades K-12 at some point during the funding period.

We do not agree with the comment that this requirement conflicts with the required evidence standards or the program goal of learning what works in education. This requirement aims to ensure that all i3 grants support students in grades K-12, but it does not require applicants to propose projects that are not designed to serve students in the target population. As long as K-12 students are served by the grantee at some point during the funding period, it is within the applicant's discretion to determine what intervention will best address the competition's priority and meet the needs of the targeted student population.

Changes: None.

Comment: One commenter expressed support for the Department's proposal to strengthen the evidence standards required for eligibility; and two other commenters expressed concern regarding the proposed evidence standards themselves. One of these commenters questioned whether tying the evidence definitions to the What Works Clearinghouse (WWC) Evidence Standards was limiting because new innovations that show promise would not be able to move beyond the Development grant level. One commenter stated that the evidence definitions needed to be weakened to be more practical.

Discussion: A unique design feature of the i3 program is how it links funding to the quality and extent of existing evidence showing the likelihood of a proposed practice improving student outcomes. We recognize that the new definitions narrow the allowable evaluation methodologies at the strong and moderate evidence of effectiveness levels; but note that the new evidence standards also broaden the types of evidence that can be used at the Development level. Considering the level of public investment and the expectations that Scale-up and Validation projects serve students at a national or regional level, we believe it is reasonable to require such projects to have evidence of their effectiveness that uses evaluation methodologies that are most likely to support causal conclusions. Moreover, this evidence requirement provides incentives for entities to conduct rigorous, high-quality evaluations of existing widespread practices so that they can move beyond the Development grant level.

Changes: None.

Comment: Two commenters stated that the requirement that an eligible nonprofit organization must have a record of significantly improving student achievement, attainment, or retention is limiting because it seems to exclude nonprofit organizations that (1) demonstrate success in designing and implementing programs similar to those for which there is moderate evidence of success and (2) are implementing programs that reflect programs supported by evidence of promise or strong theory but for which no direct evaluation exists. Both commenters suggested that the Department allow nonprofit organizations to implement these programs.

Discussion: The comment references two different eligibility requirements: (1) Eligible applicants must have a record of significantly improving student achievement, attainment, or retention; and (2) the requirement that i3 grants be supported by evidence—Scale-up grants must be supported by strong evidence of effectiveness, Validation grants must be supported by moderate evidence of effectiveness, and Development grants must be supported by evidence of promise or strong theory. While we recognize these requirements appear similar, we think it is important to distinguish them in order to address the comments fully.

First, the requirement for applicants to have a record of significantly improving student achievement, attainment, or retention is statutory, and the Department has no authority to revise or remove it. Specifically, section 14007(b)(1) through (b)(3) and section 14007(c) of the ARRA require that, to be eligible for an i3 grant, an applicant have a record of improving student achievement.

Second, while the requirement that applicants have a record of significantly improving student achievement refers to the applicant's past work with LEAs and schools, the evidence standards refer to evidence that the proposed intervention is effective. That is, the applicant must provide information on its history of working to improve student outcomes, as well as the evidence of effectiveness of the proposed intervention. We consider both of these requirements important to the i3 program goal of identifying and supporting the replication of best practices in education.

Finally, while we have provided specific definitions for each level of evidence, we have not prescribed specific measures that must be used to meet the statutory eligibility requirement. We consider the applicant to be best suited to present information on how its past work has significantly improved student achievement and to determine the metrics it uses to measure those accomplishments. This approach provides an applicant with the discretion to demonstrate its record of improving student achievement but maintains the program's structure of linking the amount of funding that an applicant may receive to the quality of the evidence supporting the efficacy of the proposed project. As noted earlier, this structure provides incentives for applicants to build evidence of effectiveness of their proposed projects.

Changes: None.

Comment: Two commenters proposed that the Department revise the statutory eligibility requirement to require an eligible applicant to have a record of significantly closing the achievement gaps between groups of students described in section 1111(b)(2) of the ESEA and students not in the subgroup (e.g., the gap between students with disabilities and students without disabilities).

Discussion: As explained previously, we have no authority to revise or expand the statutorily prescribed eligibility requirements; and, therefore, we cannot require applicants to have a record of significantly closing the achievement gaps between students in a particular subgroup and students not in that particular subgroup.

Changes: None.

Comment: One commenter expressed support for the Department's proposal to strengthen the evaluation requirement.

Discussion: We appreciate the support for requiring each i3 grantee to conduct an evaluation that will produce an estimate of the impact of the i3-supported practice (as implemented at the proposed level of scale) on a relevant outcome (as defined in this document). This requirement also aims to increase the evidence available on existing practices.

Changes: None.

Comment: One commenter expressed concern about the amount and timing of the matching requirement. The commenter stated that the requirement for matching funds conflicts with the Department's interest in identifying imaginative approaches to improving education.

Discussion: Section 14007(b)(3) of the ARRA specifically requires a private-sector match for grants awarded under this program. We understand the commenter's concern about the challenges of securing significant private-sector investments. This concern, however, is addressed by the flexibility provided in the “Cost Sharing or Matching” requirement, which allows the Secretary to determine the required amount of private-sector matching funds or in-kind contributions that eligible applicants must obtain under an i3 competition in a given year.

Moreover, the requirement now provides additional flexibility for the Secretary to announce in the notice inviting applications when and how selected eligible applicants must submit evidence of the private-sector matching funds. We expect the determination of the amount of the private-sector match, as well as the determination of when and how evidence of the private-sector match must be submitted, will be based on an assessment of the capacity and resources available in that particular year. In addition, an eligible applicant continues to have the option, under this requirement, to request in its application that the Secretary decrease the private-sector match amount that a particular applicant must provide.

Changes: None.

Comment: Three commenters recommended that the i3 program require that any learning materials, professional development, or tools created with i3 funding be made publicly available as open educational resources. The commenters specifically cited the Creative Commons Attribution license as an exemplar because, according to the commenter, it is both consistent with the Department of Labor's policy and clarifies how all users can access and use resources developed with Federal funds. One commenter stated that, although the Department's current regulations reserve the right to make content available for government purposes, a policy similar to the Creative Commons Attribution license would provide a more immediate indication of the return on investment in i3-funded projects.

Discussion: The Department's regulations on project materials and copyrightable intellectual property produced with grant funds apply to all grants awarded under this program. Specifically, under 34 CFR 75.621, grantees may copyright project materials produced with Department grant funds. However, 34 CFR 74.36 and 80.34 state that the Department retains a non-exclusive and irrevocable license to reproduce, publish, or otherwise use project materials developed with grant funds for government purposes. Together these regulations allow i3 grantees to copyright innovative project materials, thereby providing an incentive for the grantees to disseminate those materials through the commercial marketplace, while also recognizing that any such materials are the result of a public investment to promote learning, and can, if necessary, be made available to the public by the Department.

Further, one of the primary objectives of the i3 program is to identify and document best practices that can be shared and replicated. One way we do so is through the requirement that all i3 grantees participate in communities of practice. In addition, we establish priority 9 (Enabling Broad Adoption of Effective Practices) under which an applicant must share knowledge about the practice broadly and support the implementation of the practice in other settings and locations. We believe that the approach set out in the Department's current regulations properly balances the intellectual property interests of grantees and the public's interest in ensuring that copyrightable material produced with Department grant funds is widely disseminated. For these reasons, we decline to make the suggested change.

Changes: None.

Definitions

Comment: One commenter urged the Department to include definitions for “community engagement” and “family engagement,” and proposed definitions for the terms. The commenter's proposed definitions describe qualities of effective engagement and include explicit references to engagement being an ongoing or continuous process.

Discussion: We appreciate the commenter's recommendation. However, we also recognize that the range of projects aimed at improving parent and family engagement is vast, and that the meaning of “parent and family engagement” is evolving. To ensure that we do not limit or narrow the types of projects that could be submitted under this program, we decline to provide a specific definition. Moreover, because priority 6 (Improving Parent and Family Engagement) focuses on specific gaps or needs related to parent and family engagement, it does not seem necessary to further define these terms. Finally, because community engagement is not part of the priorities under this program, we conclude that it is not necessity to establish a definition.

Changes: None.

Comment: One commenter expressed concern that the current definition of “high-need student” encompasses any student who functions below grade-level. The commenter suggested the Department revise this definition to mean students with traditional achievement gaps, including low-income students, racial and ethnic minority students, ELs, or students with disabilities.

Discussion: The definition of “high-need student” could include students with traditional achievement gaps, including low-income students, racial and ethnic minority students, ELs, or students with disabilities. However, given the diversity of the projects that could be funded under the i3 program, we think it is important that an applicant have the discretion to determine which students are at risk of educational failure, and to discuss how the proposed project will meet the needs of those students.

Changes: None.

Comment: Three commenters recommended that the Department revise the examples of supplemental measures provided in the definition of “highly effective principal” to include the percentage of students with disabilities educated in general classrooms.

Discussion: The supplemental measures listed in the definition of “highly effective principal” are examples and not exhaustive. Applicants have the discretion to consider other measures, including the percentage of students with disabilities in general education classrooms. Because of this, and because of the Department's interest in maintaining consistency in the definition of “highly effective principal” across various Department programs, we decline to revise the definition to include additional examples of supplemental measures.

Changes: None.

Comment: A few commenters proposed revisions to the definition of “highly effective teacher.” One commenter stated that the proposed definition narrowly conforms to the traditional role of a teacher lecturing a classroom and must be broadened to include all educators. As student learning occurs at individual rates, and because learning can happen any time and in any place, the commenter suggested that a teacher's effectiveness rating should be more flexible and allow for differentiated timetables for content mastery, consistent with the learning at any time, any place, and any pace. Another commenter stated that the proposed definition fails to reflect the new world of teaching because it does not recognize that multiple adults affect student learning in schools using a differential staffing model.

One commenter recommended the definition be revised to clarify that the measures of effectiveness for highly effective teachers be based on standards for teaching that relate to student learning. The commenter suggested that, in addition to student growth, standards created by the National Board for Professional Teaching Standards or the Interstate New Teacher Assessment and Support Consortium should be included as measures of teacher effectiveness.

Three commenters recommended that the Department revise the definition of “highly effective teacher” to incorporate additional supplemental measures that are specific to teachers of students with disabilities, including knowledge and implementation of the principles of UDL and assessments that measure effectiveness of addressing diverse learners' needs.

Discussion: We recognize that the classroom teacher is not the only individual to affect student achievement, and that learning may occur outside of the traditional classroom. However, as the definition of “highly effective teacher” refers to “student growth,” we conclude that the definition would not need to take into consideration differentiated timetables for content mastery because the definition for “student growth” does not prescribe the two or more points in time that needs to be used to measure a change in student achievement. Further, because multiple measures may be used to determine teacher effectiveness, we do not agree it is necessary to prescribe that applicants use a specific set of teaching standards.

The list of supplemental measures provided in the definition of “highly effective teacher” provides examples and is not exhaustive. Applicants have the discretion to consider other measures, including measures proposed by the commenters. Because the use of the proposed supplemental measures is possible under the current definition and because of the Department's interest in maintaining consistency in the definition of “highly effective teachers” across Department programs, we decline to revise the definition to include additional examples of supplemental measures.

Changes: None.

Comment: One commenter suggested that the Department broaden the types of assessments used in the definition of “student achievement.” The commenter stated that assessments specified in the definition should be as robust as the skills students are expected to demonstrate, including assessments that measure a student's ability to: master core content, think critically and solve complex problems, collaborate with peers, be self-directed, and integrate feedback.

Three commenters recommended that the Department revise the definitions of “student achievement” and “student growth” to include measures that are evidence-based and comparable across student groups.

Discussion: We agree that students need to be proficient in a robust set of skills. That is why the definition of “student achievement” includes, in addition to the assessments required under section 1111(b)(3) of the ESEA, other measures of student learning. Because other measures of student learning may be used under the current definition, and because of the Department's interest in maintaining consistency in the definitions of “student achievement” and “student growth” across Department programs, we decline to revise the definition.

Changes: None.

Comment: None.

Discussion: As part of our internal review, we noted that we inadvertently omitted the definition for “nonprofit organization” from the notice of proposed priorities, requirements, definitions, and selection. As we did not propose, or have any intention of making, a change to this definition, we have added the definition that we have used in prior i3 competitions.

Changes: We have defined “nonprofit organization” to mean an entity that meets the definition of “nonprofit” under 34 CFR 77.1(c), or an institution of higher education as defined by section 101(a) of the Higher Education Act of 1965, as amended.

Comment: None.

Discussion: We have revised the definitions of “moderate evidence of effectiveness” and “strong evidence of effectiveness” by adding the phrase “and overriding” to the second parenthetical in sections (a) and (b) of both definitions. The purpose of our adding this phrase is to clarify the meaning of the parenthetical, which was intended to apply only to studies with unfavorable outcomes that were so substantial as to call into question the potential effectiveness of the intervention. The modification to the parenthetical makes clear the narrow scope of the parenthetical.

Changes: We have revised the second parenthetical in sections (a) and (b) of the definitions of “moderate evidence of effectiveness” and “strong evidence of effectiveness” to add the phrase “and overriding.” The parenthetical now reads “with no statistically significant and overriding unfavorable impacts on that outcome for relevant populations in the study or in other studies of the intervention reviewed by and reported on by the What Works Clearinghouse.”

Selection Criteria

The Department did not receive any comments on the proposed selection criteria. Therefore, we make no changes to the selection criteria.

FINAL PRIORITIES:

Priority 1—Improving the Effectiveness of Teachers or Principals.

Under this priority, we provide funding to projects that address one or more of the following priority areas:

(a) Developing and implementing new methods and sources for recruiting:

(1) Highly effective teachers (as defined in this document);

(2) Highly effective principals (as defined in this document); or

(3) Highly effective teachers and principals (as defined in this document).

(b) Developing and implementing models for teacher preparation that deepen pedagogical knowledge and skills which have been demonstrated to improve student achievement (as defined in this document), such as knowledge of instructional practices or knowledge and skills in classroom management, or that deepen pedagogical content knowledge.

(c) Developing and implementing models for principal preparation that deepen leadership skills which have been demonstrated to improve student achievement (as defined in this document).

(d) Developing and implementing models of induction and support for improving the knowledge and skills of novice teachers or novice principals to accelerate student performance, including but not limited to strategies designed to increase teacher retention or improve teacher or principal effectiveness.

(e) Creating career pathways with differentiated opportunities and roles for teachers or principals, which may include differentiated compensation.

(f) Designing and implementing teacher or principal evaluation systems that provide clear, timely, and useful feedback, including feedback that identifies areas for improvement and that guides professional development for teachers or principals.

(g) Developing supports for the ongoing development and performance improvement of teachers, principals, or instructional leaders, such as local and virtual communities, tools, training, and other mechanisms.

(h) Increasing the equitable access to effective teachers or principals for low-income and high-need students (as defined in this document), which may include increasing the equitable distribution of effective teachers or principals for low-income and high-need students across schools.

(i) Extending highly effective teachers' reach to serve more students, including strategies such as new course designs, staffing models, technology platforms, or new opportunities for collaboration that allow highly effective teachers to reach more students, or approaches or tools that reduce administrative and other burden while maintaining or improving effectiveness.

(j) Projects addressing pressing needs related to improving teacher or principal effectiveness.

Priority 2—Improving Low-Performing Schools.

Under this priority, we provide funding to projects that address one or more of the following priority areas:

(a) Designing whole-school models and implementing processes that lead to significant and sustained improvement in individual student performance and overall school performance and culture. These models may incorporate such strategies as providing strong school leadership; strengthening the instructional program; embedding professional development that provides teachers with frequent feedback to increase the rigor and effectiveness of their instructional practice; redesigning the school day, week, or year; using data to inform instruction and improvement; establishing a school environment that promotes a culture of high expectations; addressing non-academic factors that affect student achievement; and providing ongoing mechanisms for parent and family engagement.

(b) Changing elements of the school's organizational design to improve instruction by differentiating staff roles and extending and enhancing instructional time.

(c) Recruiting, developing, or retaining highly effective staff, specifically teachers, principals, or instructional leaders, to work in low-performing schools.

(d) Implementing programs, supports, or other strategies that improve students' non-cognitive abilities (e.g., motivation, persistence, or resilience) and enhance student engagement in learning or mitigate the effects of poverty, including physical, mental, or emotional health issues, on student engagement in learning.

(e) Supporting the turnaround efforts of low-performing schools or districts by increasing access to, and use of, high-quality partners.

(f) Increasing district- or State-level capacity to turn around low-performing schools, including improvements to State and district support and oversight of turnaround efforts.

(g) Projects that support the implementation of turnaround efforts in secondary schools.

(h) Projects addressing pressing needs related to improving low-performing schools.

Other requirements related to Priority 2:

To meet this priority, a project must serve schools among (1) the lowest-performing schools in the State on academic performance measures; (2) schools in the State with the largest within-school performance gaps between student subgroups described in section 1111(b)(2) of the ESEA; or (3) secondary schools in the State with the lowest graduation rate over a number of years or the largest within-school gaps in graduation rates between student subgroups described in section 1111(b)(2) of the ESEA. Additionally, projects funded under this priority must complement the broader turnaround efforts of the school(s), LEA(s), or State(s) where the projects will be implemented.

Priority 3—Improving Science, Technology, Engineering, and Mathematics (STEM) Education.

Under this priority, we provide funding to projects that address one or more of the following priority areas:

(a) Providing students with increased access to rigorous and engaging coursework in STEM.

(b) Redesigning STEM course content and instructional practices to engage students and increase student achievement (as defined in this document).

(c) Developing and implementing new methods and resources for recruiting individuals with content expertise in STEM subject areas into teaching.

(d) Increasing the high-quality preparation of, or professional development for, teachers or other educators in STEM subjects, through activities that include building content and pedagogical content knowledge.

(e) Expanding high-quality out-of-school and extended-day activities, including extending the day, week, or year, or before- or after- school, or summer learning programs, that provide students with opportunities for deliberate practice that increase STEM learning, engagement, and expertise.

(f) Increasing the number of individuals from groups traditionally underrepresented in STEM, including minorities, individuals with disabilities, and women and girls, who access rigorous and engaging coursework in STEM and are prepared for postsecondary study in STEM.

(g) Increasing the number of individuals from groups traditionally underrepresented in STEM, including minorities, individuals with disabilities, and women, who are teachers or educators of STEM subjects and receive high-quality preparation or professional development.

(h) Projects addressing pressing needs for improving STEM education.

Priority 4—Improving Academic Outcomes for Students with Disabilities.

Under this priority, we provide funding to projects that address one or more of the following priority areas:

(a) Implementing coherent systems of support that appropriately coordinate and integrate programs to address the needs of children and youth with disabilities and improve the quality of service for those children and their families.

(b) Designing and implementing teacher evaluation systems that define and measure effectiveness of special education teachers and related service providers.

(c) Designing and implementing strategies that improve student achievement (as defined in this document) for students with disabilities in inclusive settings, including strategies that improve learning and developmental outcomes (i.e., academic, social, emotional, or behavioral) and the appropriate transition from restrictive settings to inclusive settings or general education classes or programs, and appropriate strategies to prevent unnecessary suspensions and expulsions.

(d) Improving secondary and postsecondary data collection and tracking of academic and related outcomes for students with disabilities to understand their transition into postsecondary education and the factors associated with their success.

(e) Projects addressing pressing needs related to improving academic outcomes for students with disabilities.

Priority 5—Improving Academic Outcomes for English Learners (ELs).

Under this priority, we provide funding to projects that address one or more of the following priority areas:

(a) Increasing the number and proportion of ELs successfully completing courses in core academic subjects by developing, implementing, and evaluating new instructional approaches and tools that are sensitive to the language demands necessary to access challenging content, including technology-based tools.

(b) Aligning and implementing the curriculum and instruction used in grades 6-12 for language development and content courses to provide sufficient exposure to, engagement in, and acquisition of academic language and literacy practices necessary for preparing ELs to be college- and career-ready.

(c) Preparing ELs to be on track to be college- and career-ready when they graduate from high school by developing comprehensive, developmentally appropriate, early learning programs (birth-grade 3) that are aligned with the State's high-quality early learning standards, designed to improve readiness for kindergarten, and support development of literacy and academic skills in English or in English and another language.

(d) Developing and implementing school-wide professional development for teachers, administrators, and other personnel in schools in which a significant percentage of students are ELs.

(e) Designing and implementing teacher evaluation systems that define and measure the effectiveness of teachers of students who at some point have been identified as ELs (i.e., both current and former ELs).

(f) Projects addressing pressing needs related to improving academic outcomes for ELs.

Priority 6—Improving Parent and Family Engagement.

Under this priority, we provide funding to projects that address one or more of the following priority areas:

(a) Developing and implementing initiatives that train parents and families in the skills and strategies that will support their students in improving academic outcomes, including increased engagement and persistence in school.

(b) Implementing initiatives that are designed to enhance the skills and competencies of teachers, and of school and other administrative staff, in building relationships and collaborating with students' families, particularly those who have been underengaged with the school(s) in the past, in order to support student achievement and school improvement.

(c) Implementing initiatives that cultivate sustainable partnerships and increase connections between parents and school staff in order to support student achievement and school improvement.

(d) Developing tools or practices that provide students and parents with improved, ongoing access to, and use of, data and other information about students' progress and performance.

(e) Projects addressing pressing needs related to improving student outcomes by improving parent and family engagement.

Priority 7—Improving Cost-Effectiveness and Productivity.

Under this priority, we provide funding to projects that address one of the following areas:

(a) Substantially improving student outcomes without commensurately increasing per-student costs.

(b) Maintaining student outcomes while substantially decreasing per-student costs.

(c) Substantially improving student outcomes while substantially decreasing per-student costs.

Other requirements related to Priority 7:

An application addressing this priority must provide—

(1) A clear and coherent budget that identifies expected student outcomes before and after the practice, the cost per student for the practice, and a clear calculation of the cost per student served;

(2) A compelling discussion of the expected cost-effectiveness of the practice compared with alternative practices;

(3) A clear delineation of one-time costs versus ongoing costs and a plan for sustaining the project, particularly ongoing costs, after the expiration of i3 funding;

(4) Identification of specific activities designed to increase substantially the cost-effectiveness of the practice, such as re-designing costly components of the practice (while maintaining efficacy) or testing multiple versions of the practice in order to identify the most cost-effective approach; and

(5) A project evaluation that addresses the cost-effectiveness of the proposed practice.

Priority 8—Effective Use of Technology.

Under this priority, we will provide funding to projects that use technology to address one or more of the following priority areas:

(a) Providing access to learning experiences that are personalized, adaptive, and self-improving in order to optimize the delivery of instruction to learners with a variety of learning needs.

(b) Providing students and teachers with equitable “anytime, anywhere” access to learning materials and experiences that they otherwise would not have access to, such as rigorous coursework that is not offered in a particular school, or effective professional development activities or learning communities enabled by technology.

(c) Developing new methods and resources for teacher preparation or professional development that increase teachers' abilities to utilize technology to enhance their knowledge and skills to improve student achievement (as defined in this document) and to close achievement gaps.

(d) Implementing strategies that improve student proficiencies in complex skills, such as critical thinking and collaboration across academic disciplines.

(e) Developing and implementing technology-enabled strategies for teaching and learning concepts and content (e.g., systems thinking) that are difficult to teach using traditional approaches, such as models and simulations, collaborative virtual environments, or “serious games”.

(f) Integrating technology with the implementation of rigorous college- and career-ready standards to increase student achievement (as defined in this document), student engagement, and teacher efficacy, such as by providing embedded, real-time assessment and feedback to students and teachers.

(g) Projects that increase the use of technology for effective teaching and learning.

Priority 9—Enabling Broad Adoption of Effective Practices.

Under this priority, we provide funding to projects that enable broad adoption of effective practices. An application proposing to address this priority must, as part of its application:

(a) Identify the practice or practices that the application proposes to prepare for broad adoption, including formalizing the practice (i.e., establish and define key elements of the practice), codifying (i.e., develop a guide or tools to support the dissemination of information on key elements of the practice), and explaining why there is a need for formalization and codification.

(b) Evaluate different forms of the practice to identify the critical components of the practice that are crucial to its success and sustainability, including the adaptability of critical components to different teaching and learning environments and to diverse learners.

(c) Provide a coherent and comprehensive plan for developing materials, training, toolkits, or other supports that other entities would need in order to implement the practice effectively and with fidelity.

(d) Commit to assessing the replicability and adaptability of the practice by supporting the implementation of the practice in a variety of locations during the project period using the materials, training, toolkits, or other supports that were developed for the i3-supported practice.

Priority 10—Serving Rural Communities.

Under this priority, we provide funding to projects that address one of the absolute priorities established for a particular i3 competition and under which the majority of students to be served are enrolled in rural local educational agencies (as defined in this document).

Priority 11—Supporting Novice i3 Applicants.

Eligible applicants that have never directly received a grant under this program.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Requirements:

1. Innovations that Improve Achievement for High-Need Students: All grantees must implement practices that are designed to improve student achievement (as defined in this document) or student growth (as defined in this document), close achievement gaps, decrease dropout rates, increase high school graduation rates (as defined in this document), or increase college enrollment and completion rates for high-need students (as defined in this document).

2. Innovations that Serve Kindergarten-through-Grade-12 (K-12) Students: All grantees must implement practices that serve students who are in grades K-12 at some point during the funding period. To meet this requirement, projects that serve early learners (i.e., infants, toddlers, or preschoolers) must provide services or supports that extend into kindergarten or later years, and projects that serve postsecondary students must provide services or supports during the secondary grades or earlier.

3. Eligible Applicants: Entities eligible to apply for i3 grants include either of the following:

(a) An LEA.

(b) A partnership between a nonprofit organization and—

(1) One or more LEAs; or

(2) A consortium of schools.

Statutory Eligibility Requirements: Except as specifically set forth in the Note about Eligibility for an Eligible Applicant that Includes a Nonprofit Organization that follows, to be eligible for an award, an eligible applicant must—

(a)(1) Have significantly closed the achievement gaps between groups of students described in section 1111(b)(2) of the ESEA (economically disadvantaged students, students from major racial and ethnic groups, students with limited English proficiency, students with disabilities); or

(2) Have demonstrated success in significantly increasing student academic achievement for all groups of students described in that section;

(b) Have made significant improvements in other areas, such as high school graduation rates (as defined in this document) or increased recruitment and placement of high-quality teachers and principals, as demonstrated with meaningful data;

(c) Demonstrate that it has established one or more partnerships with the private sector, which may include philanthropic organizations, and that organizations in the private sector will provide matching funds in order to help bring results to scale; and

(d) In the case of an eligible applicant that includes a nonprofit organization, provide in the application the names of the LEAs with which the nonprofit organization will partner, or the names of the schools in the consortium with which it will partner. If an eligible applicant that includes a nonprofit organization intends to partner with additional LEAs or schools that are not named in the application, it must describe in the application the demographic and other characteristics of these LEAs and schools and the process it will use to select them.

Note about LEA Eligibility: For purposes of this program, an LEA is an LEA located within one of the 50 States, the District of Columbia, or the Commonwealth of Puerto Rico.

Note about Eligibility for an Eligible Applicant that Includes a Nonprofit Organization: The authorizing statute specifies that an eligible applicant that includes a nonprofit organization meets the requirements in paragraphs (a) and (b) of the eligibility requirements for this program if the nonprofit organization has a record of significantly improving student achievement, attainment, or retention. For an eligible applicant that includes a nonprofit organization, the nonprofit organization must demonstrate that it has a record of significantly improving student achievement, attainment, or retention through its record of work with an LEA or schools. Therefore, an eligible applicant that includes a nonprofit organization does not necessarily need to include as a partner for its i3 grant an LEA or a consortium of schools that meets the requirements in paragraphs (a) and (b) of the eligibility requirements in this document.

In addition, the authorizing statute specifies that an eligible applicant that includes a nonprofit organization meets the requirements of paragraph (c) of the eligibility requirements in this document if the eligible applicant demonstrates that it will meet the requirement for private-sector matching.

4. Cost-Sharing or Matching Funds: To be eligible for an award, an applicant must demonstrate that one or more private sector organizations, which may include philanthropic organizations, will provide matching funds in order to help bring project results to scale. An eligible applicant must obtain matching funds or in-kind donations equal to an amount that the Secretary will specify in the notice inviting applications for the specific i3 competition. The Secretary will announce in the notice inviting applications when and how selected eligible applicants must submit evidence of the private-sector matching funds.

The Secretary may consider decreasing the matching requirement in the most exceptional circumstances. The Secretary will provide instructions for how to request a reduction of the matching requirement in the notice inviting applications.

5. Evidence Standards: To be eligible for an award, an application for a Development grant must be supported by one of the following:

(a) Evidence of promise (as defined in this document);

(b) Strong theory (as defined in this document); or

(c) Evidence of promise (as defined in this document) or strong theory (as defined in this document).

The Secretary will announce in the notice inviting applications which options will be used as the evidence standard for a Development grant in a given competition. Note that under (c), applicants must identify whether the application is supported by evidence of promise (as defined in this document) or strong theory (as defined in this document).

To be eligible for an award, an application for a Validation grant must be supported by moderate evidence of effectiveness (as defined in this document).

To be eligible for an award, an application for a Scale-up grant must be supported by strong evidence of effectiveness (as defined in this document).

6. Funding Categories: An applicant will be considered for an award only for the type of i3 grant (i.e., Development, Validation, and Scale-up) for which it applies. An applicant may not submit an application for the same proposed project under more than one type of grant.

7. Limit on Grant Awards: (a) No grantee may receive more than two new grant awards of any type under the i3 program in a single year; (b) In any two-year period, no grantee may receive more than one new Scale-up or Validation grant; and (c) No grantee may receive in a single year new i3 grant awards that total an amount greater than the sum of the maximum amount of funds for a Scale-up grant and the maximum amount of funds for a Development grant for that year. For example, in a year when the maximum award value for a Scale-up grant is $25 million and the maximum award value for a Development grant is $5 million, no grantee may receive in a single year new grants totaling more than $30 million.

8. Subgrants: In the case of an eligible applicant that is a partnership between a nonprofit organization and (1) one or more LEAs or (2) a consortium of schools, the partner serving as the applicant and, if funded, as the grantee, may make subgrants to one or more entities in the partnership.

9. Evaluation: The grantee must conduct an independent evaluation (as defined in this document) of its project. This evaluation must estimate the impact of the i3-supported practice (as implemented at the proposed level of scale) on a relevant outcome (as defined in this document). The grantee must make broadly available digitally and free of charge, through formal (e.g., peer-reviewed journals) or informal (e.g., newsletters) mechanisms, the results of any evaluations it conducts of its funded activities. For Scale-up and Validation grants, the grantee must also ensure that the data from its evaluation are made available to third-party researchers consistent with applicable privacy requirements.

In addition, the grantee and its independent evaluator must agree to cooperate with any technical assistance provided by the Department or its contractor and comply with the requirements of any evaluation of the program conducted by the Department. This includes providing to the Department, within 100 days of a grant award, an updated comprehensive evaluation plan in a format and using such tools as the Department may require. Grantees must update this evaluation plan at least annually to reflect any changes to the evaluation. All of these updates must be consistent with the scope and objectives of the approved application.

10. Communities of Practice: Grantees must participate in, organize, or facilitate, as appropriate, communities of practice for the i3 program. A community of practice is a group of grantees that agrees to interact regularly to solve a persistent problem or improve practice in an area that is important to them.

11. Management Plan: Within 100 days of a grant award, the grantee must provide an updated comprehensive management plan for the approved project in a format and using such tools as the Department may require. This management plan must include detailed information about implementation of the first year of the grant, including key milestones, staffing details, and other information that the Department may require. It must also include a complete list of performance metrics, including baseline measures and annual targets. The grantee must update this management plan at least annually to reflect implementation of subsequent years of the project.

Final Definitions:

The Assistant Deputy Secretary establishes the following definitions for this program. We may apply one or more of these definitions in any year in which this program is in effect.

Consortium of schools means two or more public elementary or secondary schools acting collaboratively for the purpose of applying for and implementing an i3 grant jointly with an eligible nonprofit organization.

Evidence of promise means there is empirical evidence to support the theoretical linkage between at least one critical component and at least one relevant outcome presented in the logic model (as defined in this document) for the proposed process, product, strategy, or practice. Specifically, evidence of promise means the following conditions are met:

(a) There is at least one study that is either a—

(1) Correlational study with statistical controls for selection bias;

(2) Quasi-experimental study (as defined in this document) that meets the What Works Clearinghouse Evidence Standards with reservations ¹; or

¹ See What Works Clearinghouse Procedures and Standards Handbook (Version 2.1, September 2011), which can currently be found at the following link: http://ies.ed.gov/ncee/wwc/DocumentSum.aspx?sid=19.

(3) Randomized controlled trial (as defined in this document) that meets the What Works Clearinghouse Evidence Standards with or without reservations; ² and

² See What Works Clearinghouse Procedures and Standards Handbook (Version 2.1, September 2011), which can currently be found at the following link: http://ies.ed.gov/ncee/wwc/DocumentSum.aspx?sid=19.

(b) Such a study found a statistically significant or substantively important (defined as a difference of 0.25 standard deviations or larger), favorable association between at least one critical component and one relevant outcome presented in the logic model for the proposed process, product, strategy, or practice.

High-need student means a student at risk of educational failure or otherwise in need of special assistance and support, such as students who are living in poverty, who attend high-minority schools (as defined in this document), who are far below grade level, who have left school before receiving a regular high school diploma, who are at risk of not graduating with a diploma on time, who are homeless, who are in foster care, who have been incarcerated, who have disabilities, or who are English learners.

High-minority school is defined by a school's LEA in a manner consistent with the corresponding State's Teacher Equity Plan, as required by section 1111(b)(8)(C) of the ESEA. The applicant must provide, in its i3 application, the definition(s) used.

High school graduation rate means a four-year adjusted cohort graduation rate consistent with 34 CFR 200.19(b)(1) and may also include an extended-year adjusted cohort graduation rate consistent with 34 CFR 200.19(b)(1)(v) if the State in which the proposed project is implemented has been approved by the Secretary to use such a rate under Title I of the ESEA.

Highly effective principal means a principal whose students, overall and for each subgroup as described in section 1111(b)(3)(C)(xiii) of the ESEA (economically disadvantaged students, students from major racial and ethnic groups, migrant students, students with disabilities, students with limited English proficiency, and students of each gender), achieve high rates (e.g., one and one-half grade levels in an academic year) of student growth. Eligible applicants may include multiple measures, provided that principal effectiveness is evaluated, in significant part, based on student growth. Supplemental measures may include, for example, high school graduation rates; college enrollment rates; evidence of providing supportive teaching and learning conditions, support for ensuring effective instruction across subject areas for a well-rounded education, strong instructional leadership, and positive family and community engagement; or evidence of attracting, developing, and retaining high numbers of effective teachers.

Highly effective teacher means a teacher whose students achieve high rates (e.g., one and one-half grade levels in an academic year) of student growth. Eligible applicants may include multiple measures, provided that teacher effectiveness is evaluated, in significant part, based on student academic growth. Supplemental measures may include, for example, multiple observation-based assessments of teacher performance or evidence of leadership roles (which may include mentoring or leading professional learning communities) that increase the effectiveness of other teachers in the school or LEA.

Independent evaluation means that the evaluation is designed and carried out independent of, but in coordination with, any employees of the entities who develop a process, product, strategy, or practice and are implementing it.

Innovation means a process, product, strategy, or practice that improves (or is expected to improve) significantly upon the outcomes reached with status quo options and that can ultimately reach widespread effective usage.

Large sample means a sample of 350 or more students (or other single analysis units) who were randomly assigned to a treatment or control group, or 50 or more groups (such as classrooms or schools) that contain 10 or more students (or other single analysis units) and that were randomly assigned to a treatment or control group.

Logic model (also referred to as theory of action) means a well-specified conceptual framework that identifies key components of the proposed process, product, strategy, or practice (i.e., the active “ingredients” that are hypothesized to be critical to achieving the relevant outcomes) and describes the relationships among the key components and outcomes, theoretically and operationally.

Moderate evidence of effectiveness means one of the following conditions is met:

(a) There is at least one study of the effectiveness of the process, product, strategy, or practice being proposed that: meets the What Works Clearinghouse Evidence Standards without reservations; ³ found a statistically significant favorable impact on a relevant outcome (as defined in this document) (with no statistically significant and overriding unfavorable impacts on that outcome for relevant populations in the study or in other studies of the intervention reviewed by and reported on by the What Works Clearinghouse); and includes a sample that overlaps with the populations or settings proposed to receive the process, product, strategy, or practice.

³ See What Works Clearinghouse Procedures and Standards Handbook (Version 2.1, September 2011), which can currently be found at the following link: http://ies.ed.gov/ncee/wwc/DocumentSum.aspx?sid=19.

(b) There is at least one study of the effectiveness of the process, product, strategy, or practice being proposed that: meets the What Works Clearinghouse Evidence Standards with reservations; ⁴ found a statistically significant favorable impact on a relevant outcome (as defined in this document) (with no statistically significant and overriding unfavorable impacts on that outcome for relevant populations in the study or in other studies of the intervention reviewed by and reported on by the What Works Clearinghouse); includes a sample that overlaps with the populations or settings proposed to receive the process, product, strategy, or practice; and includes a large sample (as defined in this document) and a multi-site sample (as defined in this document). (Note: multiple studies can cumulatively meet the large and multi-site sample requirements as long as each study meets the other requirements in this paragraph).

⁴ See What Works Clearinghouse Procedures and Standards Handbook (Version 2.1, September 2011), which can currently be found at the following link: http://ies.ed.gov/ncee/wwc/DocumentSum.aspx?sid=19.

Multi-site sample means more than one site, where site can be defined as an LEA, locality, or State.

National level describes the level of scope or effectiveness of a process, product, strategy, or practice that is able to be effective in a wide variety of communities, including rural and urban areas, as well as with different groups (e.g., economically disadvantaged, racial and ethnic groups, migrant populations, individuals with disabilities, English learners, and individuals of each gender).

Nonprofit organization means an entity that meets the definition of “nonprofit” under 34 CFR 77.1 (c), or an institution of higher education as defined by section 101 (a) of the Higher Education Act of 1965, as amended.

Quasi-experimental design study means a study using a design that attempts to approximate an experimental design by identifying a comparison group that is similar to the treatment group in important respects. These studies, depending on design and implementation, can meet What Works Clearinghouse Evidence Standards with reservations ⁵ (they cannot meet What Works Clearinghouse Evidence Standards without reservations).

⁵ See What Works Clearinghouse Procedures and Standards Handbook (Version 2.1, September 2011), which can currently be found at the following link: ies.ed.gov/ncee/wwc/DocumentSum.aspx?sid=19.

Randomized controlled trial means a study that employs random assignment of, for example, students, teachers, classrooms, schools, or districts to receive the intervention being evaluated (the treatment group) or not to receive the intervention (the control group). The estimated effectiveness of the intervention is the difference between the average outcome for the treatment group and for the control group. These studies, depending on design and implementation, can meet What Works Clearinghouse Evidence Standards without reservations.⁶

⁶ See What Works Clearinghouse Procedures and Standards Handbook (Version 2.1, September 2011), which can currently be found at the following link: ies.ed.gov/ncee/wwc/DocumentSum.aspx?sid=19.

Regional level describes the level of scope or effectiveness of a process, product, strategy, or practice that is able to serve a variety of communities within a State or multiple States, including rural and urban areas, as well as with different groups (e.g., economically disadvantaged, racial and ethnic groups, migrant populations, individuals with disabilities, English learners, and individuals of each gender). For an LEA-based project to be considered a regional-level project, a process, product, strategy, or practice must serve students in more than one LEA, unless the process, product, strategy, or practice is implemented in a State in which the State educational agency is the sole educational agency for all schools.

Relevant outcome means the student outcome or outcomes (or the ultimate outcome if not related to students) that the proposed project is designed to improve, consistent with the specific goals of the project and the i3 program.

Rural local educational agency means a local educational agency (LEA) that is eligible under the Small Rural School Achievement (SRSA) program or the Rural and Low-Income School (RLIS) program authorized under Title VI, Part B of the ESEA. Eligible applicants may determine whether a particular LEA is eligible for these programs by referring to information on the Department's Web site at www2.ed.gov/nclb/freedom/local/reap.html.

Strong evidence of effectiveness means that one of the following conditions is met:

(a) There is at least one study of the effectiveness of the process, product, strategy, or practice being proposed that: meets the What Works Clearinghouse Evidence Standards without reservations; ⁷ found a statistically significant favorable impact on a relevant outcome (as defined in this document) (with no statistically significant and overriding unfavorable impacts on that outcome for relevant populations in the study or in other studies of the intervention reviewed by and reported on by the What Works Clearinghouse); includes a sample that overlaps with the populations and settings proposed to receive the process, product, strategy, or practice; and includes a large sample (as defined in this document) and a multi-site sample (as defined in this document). (Note: multiple studies can cumulatively meet the large and multi-site sample requirements as long as each study meets the other requirements in this paragraph).

⁷ See What Works Clearinghouse Procedures and Standards Handbook (Version 2.1, September 2011), which can currently be found at the following link: http://ies.ed.gov/ncee/wwc/DocumentSum.aspx?sid=19.

(b) There are at least two studies of the effectiveness of the process, product, strategy, or practice being proposed, each of which: meets the What Works Clearinghouse Evidence Standards with reservations; ⁸ found a statistically significant favorable impact on a relevant outcome (as defined in this document) (with no statistically significant and overriding unfavorable impacts on that outcome for relevant populations in the studies or in other studies of the intervention reviewed by and reported on by the What Works Clearinghouse); includes a sample that overlaps with the populations and settings proposed to receive the process, product, strategy, or practice; and includes a large sample (as defined in this document) and a multi-site sample (as defined in this document).

⁸ See What Works Clearinghouse Procedures and Standards Handbook (Version 2.1, September 2011), which can currently be found at the following link: http://ies.ed.gov/ncee/wwc/DocumentSum.aspx?sid=19.

Strong theory means a rationale for the proposed process, product, strategy, or practice that includes a logic model (as defined in this document).

Student achievement means—

(a) For grades and subjects in which assessments are required under ESEA section 1111(b)(3): (1) a student's score on such assessments and may include (2) other measures of student learning, such as those described in paragraph (b), provided they are rigorous and comparable across schools within an LEA.

(b) For grades and subjects in which assessments are not required under ESEA section 1111(b)(3): alternative measures of student learning and performance such as student results on pre-tests, end-of-course tests, and objective performance-based assessments; student learning objectives; student performance on English language proficiency assessments; and other measures of student achievement that are rigorous and comparable across schools within an LEA.

Student growth means the change in student achievement (as defined in this document) for an individual student between two or more points in time. An applicant may also include other measures that are rigorous and comparable across classrooms.

Final Selection Criteria:

The Secretary establishes the following selection criteria for evaluating an application under this program. We may apply one or more of these criteria in any year in which this program is in effect. We propose that the Secretary may use:

• One or more of the selection criteria established in the notice of final priorities, requirements, definitions, and selection criteria;

• Any of the selection criteria in 34 CFR 75.210; criteria based on the statutory requirements for the i3 program in accordance with 34 CFR 75.209; or

• Any combination of these when establishing selection criteria for each particular type of grant (Development, Validation, and Scale-up) in any i3 competition. We propose that the Secretary may further define each criterion by selecting specific factors for it. The Secretary may select these factors from any selection criterion in the list above. In the notice inviting applications, the application package, or both we will announce the specific selection criteria that apply to a competition and the maximum possible points assigned to each criterion.

(a) Significance.

In determining the significance of the proposed project, the Secretary will consider one or more of the following factors:

(1) The extent to which the proposed project addresses a national need.

(2) The extent to which the proposed project addresses a challenge for which there is a national need for solutions that are better than the solutions currently available.

(3) The extent to which the proposed project would implement a novel approach as compared with what has been previously attempted nationally.

(4) The extent of the expected impact of the project on relevant outcomes (as defined in this document), including the estimated impact of the project on student outcomes (particularly those related to student achievement (as defined in this document)) and the breadth of the project's impact, compared with alternative practices or methods of addressing similar needs.

(5) The extent to which the proposed project demonstrates that it is likely to have a meaningful impact on relevant outcomes (as defined in this document), particularly those related to student achievement (as defined in this document), if it were implemented and evaluated in a variety of settings.

(6) The extent to which the proposed project will substantially improve on the outcomes achieved by other practices, such as through better student outcomes, lower cost, or accelerated results.

(7) The importance and magnitude of the proposed project's expected impact on a relevant outcome (as defined in this document), particularly one related to student achievement (as defined in this document).

(8) The likelihood that the project will have the estimated impact, including the extent to which the applicant demonstrates that unmet demand for the proposed project or the proposed services will enable the applicant to reach the proposed level of scale.

(9) The feasibility of national expansion if favorable outcomes are achieved.

(b) Quality of the Project Design.

In determining the quality of the project design, the Secretary will consider one or more of the following factors:

(1) The extent to which the proposed project addresses the national need and priorities the applicant is seeking to meet.

(2) The extent to which the proposed project addresses the absolute priority the applicant is seeking to meet.

(3) The clarity and coherence of the project goals, including the extent to which the proposed project articulates an explicit plan or actions to achieve its goals (e.g., a fully developed logic model of the proposed project).

(4) The extent to which the proposed project has a clear set of goals and an explicit plan or actions to achieve the goals, including identification of any elements of the project logic model that require further testing or development.

(5) The extent to which the proposed project will produce a fully codified practice, including a fully articulated logic model of the project by the end of the project period.

(6) The clarity, completeness, and coherence of the project goals and whether the application includes a description of project activities that constitute a complete plan for achieving those goals, including the identification of potential risks to project success and strategies to mitigate those risks.

(7) The extent to which the applicant addresses potential risks to project success and strategies to mitigate those risks.

(8) The extent to which the applicant will use grant funds to address a particular barrier or barriers that prevented the applicant, in the past, from reaching the level of scale proposed in the application.

(9) The extent to which the project would build the capacity of the applicant to scale up and sustain the project or would create an organization capable of expanding if successful outcomes are achieved.

(10) The sufficiency of the resources to support effective project implementation, including the project's plan for ensuring funding after the period of the Federal grant.

(11) The sufficiency of the resources to support effective project implementation.

(c) Quality of the Management Plan.

In determining the quality of the management plan, the Secretary will consider one or more of the following factors:

(1) The extent to which the management plan articulates key responsibilities and well-defined objectives, including the timelines and milestones for completion of major project activities, the metrics that will be used to assess progress on an ongoing basis, and annual performance targets the applicant will use to monitor whether the project is achieving its goals.

(2) The clarity and coherence of the applicant's multi-year financial and operating model and accompanying plan to operate the project at a national level (as defined in this document) during the project period.

(3) The clarity and coherence of the applicant's multi-year financial and operating model and accompanying plan to operate the project at a national or regional level (as defined in this document) during the project period.

(4) The extent to which the applicant demonstrates that it will have the resources to operate the project at the proposed level of scale during the project period and beyond the length of the grant, including the demonstrated commitment of any partners and evidence of broad support from stakeholders critical to the project's long-term success (e.g., State educational agencies, teachers' unions).

(5) The extent of the demonstrated commitment of any key partners or evidence of broad support from stakeholders whose participation is critical to the project's long-term success.

(d) Personnel.

When evaluating the personnel of the proposed project, the Secretary will consider one or more of the following factors:

(1) The adequacy of the project's staffing plan, particularly for the first year of the project, including the identification of the project director and, in the case of projects with unfilled key personnel positions at the beginning of the project, that the staffing plan identifies how critical work will proceed.

(2) The qualifications and experience of the project director and other key project personnel and the extent to which they have the expertise to accomplish the proposed tasks.

(3) The extent to which the project director has experience managing large, complex, and rapidly growing projects.

(4) The extent to which the project director has experience managing large, complex projects.

(5) The extent to which the project director has experience managing projects of similar size and scope as the proposed project.

(e) Quality of the Project Evaluation.

In determining the quality of the project evaluation, the Secretary will consider one or more of the following factors:

(1) The clarity and importance of the key questions to be addressed by the project evaluation, and the appropriateness of the methods for how each question will be addressed.

(2) The extent to which the methods of evaluation will, if well implemented, produce evidence about the project's effectiveness that would meet the What Works Clearinghouse Evidence Standards without reservations.⁹

⁹ See What Works Clearinghouse Procedures and Standards Handbook. (Version 2.1, September 2011), which can currently be found at the following link: http://ies.ed.gov/ncee/wwc/DocumentSum.aspx?sid=19.

(3) The extent to which the methods of evaluation will, if well implemented, produce evidence about the project's effectiveness that would meet the What Works Clearinghouse Evidence Standards with or without reservations.¹⁰

¹⁰ See What Works Clearinghouse Procedures and Standards Handbook (Version 2.1, September 2011), which can currently be found at the following link: http://ies.ed.gov/ncee/wwc/DocumentSum.aspx?sid=19.

(4) The extent to which the methods of evaluation will provide valid and reliable performance data on relevant outcomes, particularly student achievement outcomes.

(5) The extent to which the evaluation will study the project at the proposed level of scale, including, where appropriate, generating information about potential differential effectiveness of the project in diverse settings and for diverse student population groups.

(6) The extent to which the evaluation will study the project at the proposed level of scale, including in diverse settings.

(7) The extent to which the evaluation plan includes a clear and credible analysis plan, including a proposed sample size and minimum detectable effect size that aligns with the expected project impact, and an analytic approach for addressing the research questions.

(8) The extent to which the evaluation plan includes a clear, well-documented, and rigorous method for measuring implementation of the critical features of the project, as well as the intended outcomes.

(9) The extent to which the evaluation plan clearly articulates the key components and outcomes of the project, as well as a measurable threshold for acceptable implementation.

(10) The extent to which the evaluation plan will provide sufficient information on the project's effect as compared to alternative practices addressing similar need.

(11) The extent to which the proposed project plan includes sufficient resources to carry out the project evaluation effectively.

This document does not preclude us from proposing additional priorities, requirements, definitions, or selection criteria, subject to meeting applicable rulemaking requirements.

Note: This document does not solicit applications. In any year in which we choose to use one or more of these priorities, requirements, definitions, and selection criteria], we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action will have an annual effect on the economy of more than $100 million because Department anticipates more than that amount will be appropriated for i3 and awarded as grants. Therefore, this final action is “economically significant” and subject to review by OMB under section 3(f)(1) of Executive Order 12866. Notwithstanding this determination, we have assessed the potential costs and benefits, both quantitative and qualitative, of this final regulatory action and have determined that the benefits justify the costs.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities, requirements, definitions, and selection criteria only on a reasoned determination that their benefits justify their costs. In choosing among alternative regulatory approaches, we selected those approaches that maximize net benefits. Based on the analysis that follows, the Department believes that this regulatory action is consistent with the principles in Executive Order 13563.

We also have determined that this final regulatory action does not unduly interfere with State, local, and tribal governments in the exercise of their governmental functions.

In this regulatory impact analysis we discuss the need for regulatory action, the potential costs and benefits, net budget impacts, assumptions, limitations, and data sources, as well as regulatory alternatives we considered.

Discussion of Costs and Benefits

The Secretary believes that these priorities, requirements, definitions, and selection criteria would not impose significant costs on eligible LEAs, nonprofit organizations, or other entities that would receive assistance through the i3 program. The Secretary also believes that the benefits of implementing the priorities, requirements, definitions, and selection criteria contained in this document outweigh any associated costs.

The Secretary expects that these priorities, requirements, definitions, and selection criteria will result in selection of high-quality applications to implement activities that are most likely to have a significant national impact on educational reform and improvement. Additionally, the priorities, requirements, definitions, and selection criteria in this document clarify the scope of activities the Secretary expects to support with program funds and the expected burden of work involved in preparing an application and implementing a project under the program. Potential applicants, both LEAs and nonprofit organizations, need to consider carefully the effort that will be required to prepare a strong application, their capacity to implement a project successfully, and their chances of submitting a successful application.

Program participation is voluntary. The Secretary believes that the costs imposed on applicants by these priorities, requirements, definitions, and selection criteria would be limited to paperwork burden related to preparing an application and that the benefits of implementing them would outweigh any costs incurred by applicants. The costs of carrying out activities would be paid for with program funds and with matching funds provided by private-sector partners. Thus, the costs of implementation would not be a burden for any eligible applicants, including small entities.

Regulatory Alternatives Considered

The Department considered using the priorities, requirements, definitions, and selection criteria established for and used during prior i3 competitions instead of establishing these final priorities, requirements, definitions, and selection criteria. However, although we maintain the overall purpose and structure of the i3 program, we incorporate changes based on specific lessons learned from the first three competitions. For example, the original i3 priorities were written broadly and generated a wide range of projects in the first three competitions. With this regulatory action, we establish final priorities that provide for a more focused set of projects within areas of acute need. Similarly, the final requirement on cost-sharing and marching provides more flexibility for when and how selected eligible applicants must submit evidence of the private-sector matching funds. We also use this regulatory action to provide clarification on the expectations for the three types of grants under the i3 program (i.e., Development, Validation, and Scale-up) by making changes to the descriptions of the types of grants and the selection criteria.

The priorities, requirements, definitions, and selection criteria in this document reflect and promote the purpose of the i3 program. They also align the i3 program, where possible and permissible, with other Departmental priorities.

Accounting Statement

As required by OMB Circular A-4 (available at www.whitehouse.gov/sites/default/files/omb/assets/omb/circulars/a004/a-4.pdf), in the following table we have prepared an accounting statement showing the classification of the expenditures associated with the provisions of this regulatory action. This table provides our best estimate of the changes in annual monetized transfers as a result of this regulatory action. Expenditures are classified as transfers from Federal Government to LEAs and nonprofit organizations.

Accounting Statement Classification of Estimated Expenditures
Category | Transfers
Annualized Monetized Transfers | $140,011,000
From Whom To Whom? | from the Federal Government to LEAs and nonprofit organizations

Waiver of Delayed Effective Date Under Congressional Review Act

These priorities, requirements, definitions, and selection criteria are a major rule for purposes of the Congressional Review Act (CRA) (5 U.S.C. 801, et seq.). Generally, under the CRA, a major rule takes effect 60 days after the date on which the rule is published in the Federal Register. Section 808(2) of the CRA, however, provides that any rule which an agency for good cause finds (and incorporates the finding and a brief statement of reasons therefore in the rule issued) that notice and public procedure thereon are impracticable, unnecessary, or contrary to the public interest, shall take effect at such time as the Federal agency promulgating the rule determines.

These final priorities, requirements, definitions, and selection criteria are needed to implement the i3 program, authorized under the American Recovery and Reinvestment Act of 2009, Division A, Section 14007, Public Law 111-5. The Department must make grant awards under this authority by December 31, 2013, or the funds will lapse.

Even under an expedited timeline, it is impracticable for the Department to adhere to a 60-day delayed effective date for this final regulatory action and make awards to qualified applicants by the December deadline. When the 60-day delayed effective date is added to the time the Department will need to receive pre-applications (approximately 30 days), review the pre-applications and invite full applications (approximately 60 days), receive full applications (approximately 45 days), review applications (approximately 35 days), approve applications (approximately 50 days), and, finally, provide time for grantees to secure the required private-sector matching funds (approximately 30 days), the Department will not be able to award funds by December 31, 2013. The Department has therefore determined that, under section 808(2) of the CRA, the 60-day delay in the effective date generally required for congressional review is impracticable, contrary to the public interest, and waived for good cause.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 21, 2013.
James H. Shelton, III,
Assistant Deputy Secretary for Innovation and Improvement.

[FR Doc. 2013-07016 Filed 3-26-13; 8:45 am]

BILLING CODE 4000-01-P